DEPARTMENT OF HEALTH AND HUMAN SERVICES

Administration for Children and Families

[Program Announcement No. OCS-2002-08]

Request for Applications Under the Office of Community Services Fiscal Year 2002 Assets for Independence Demonstration Program (IDA Program)

AGENCY: Office of Community Services (OCS), Administration for Children and Families, Department of Health and Human Services.

ACTION: Announcement of availability of funds and request for competitive applications under the Office of Community Services' Assets for Independence Demonstration Program.

SUMMARY: The Administration for Children and Families (ACF), Office of Community Services (OCS), invites eligible entities to submit competitive applications for new grants to establish, implement, and participate in the evaluation of demonstration projects that will offer Individual Development Accounts (IDAs) to lower income individuals and families. Applications will be screened and competitively reviewed as indicated in this Program Announcement. Awards will be contingent on the outcome of the competition and the availability of funds.

DATES: To be considered for funding, applications must be received on or before June 14, 2002. Mail service in the Washington, DC area was disrupted a few months ago and for several weeks, all mail deliveries to the Administration for Children and Families stopped. Regular deliveries have resumed, but delays continue due to the irradiation process. It may be some time before the situation corrects itself. Consequently, it is strongly recommended that applicants avail themselves of overnight/express delivery such as Federal Express or United Parcel Service to submit their applications. Applications received after the due date will not be accepted for consideration in the first round of proposal reviews. If there is an insufficient number of acceptable applications in the first round of proposal reviews for OCS to fully expend available funds, a second round of applications will be accepted and reviewed, subject to the availability of funds, if received on or before August 5, 2002. Should this be the case, ACF will publish a timely notice to that effect in the Federal Register. See Part IV of this announcement for more information on submitting applications.

FOR FURTHER INFORMATION CONTACT: Sheldon Shalit (202) 401-4807, sshalit@acf.dhhs.gov, or Richard Saul (202) 401-9341, rsaul@acf.dhhs.gov, Department of Health and Human Services, Administration for Children and Families, Office of Community Services, 370 L'Enfant Promenade, SW, Washington, DC 20447.

In addition, this Announcement is accessible on the OCS Website for reading or downloading at: http://www.acf.dhhs.gov/programs/ocs/—click on “Funding Opportunities.”

The Catalog of Federal Domestic Assistance (CFDA) number for this program is 93.602. The title is Assets for Independence Demonstration Program (IDA Program).

SUPPLEMENTARY INFORMATION: This program announcement consists of seven parts plus Attachments:

Part I: Program Overview and Background Information

Program overview, legislative authority, program purpose, project goals, program evaluation, and definition of terms.

Part II: Program Objectives, and Requirements

Program area, eligible applicants, project and budget periods, funds availability and grant amounts, project eligibility and requirements, cash non-Federal share funds requirements, preferences, multiple applications, treatment of program income, and agreements with partnering financial institutions.

Part III: The Project Description, Program Proposal Elements and Review Criteria

Purpose, project summary/abstract; objectives and need for assistance, results or benefits expected, approach, organizational profiles, budget and budget justification, non-Federal resources, and evaluation criteria.

Part IV: Application Procedures

Application development/availability of forms, application submission, intergovernmental review, initial OCS screening, consideration of applications, and funding reconsideration.

Part V: Instructions for Completing Application Forms SF424, SF424A, SF424B

Part VI: Contents of Application and Receipt Process

Content and order of program application, acknowledgment of receipt.

Part VII: Post Award Information and Reporting Requirements

Notification of grant award, attendance at technical assistance and evaluation workshops/conferences, reporting requirements, audit requirements, prohibitions and requirements with regard to lobbying, applicable Federal regulations.

Attachments

Application forms and required attachments.

Paperwork Reduction Act of 1995

Public reporting burden for this collection of information is estimated to average 10 hours per response, including the time for reviewing instructions, gathering and maintaining the data needed and reviewing the collection information.

The project description is approved under OMB control number 0970-0139 which expires 12/31/2003.

An agency may not conduct or sponsor, and a person is not required to respond to, a collection of information unless it displays a currently valid OMB control number.

Part I. Program Overview and Background Information

A. Program Overview

This is a program established by the Assets for Independence Act (AFI Act) that is seeking to find out if, and how, Individual Development Accounts can best be used as a tool to help lower income working families accumulate assets; and to what extent such accumulation of assets will help stabilize and improve families and the community in which the families live.

Eligible Applicants

The Assets for Independence Demonstration Program offers five-year Federal grants to the following eligible applicants:

(1) One or more not-for-profit 501(c)(3) tax-exempt organizations;

(2) A State, local or Tribal government agency applying jointly with a 501(c)(3) tax exempt organization;

(3) A Community Development Financial Institution (CDFI) or a Low Income Credit Union (so designated by the National Credit Union Administration), that has a collaborative relationship with a local community-based organization whose activities are designed to address poverty in the community.

501(c)(3) Faith-Based organizations are eligible to apply for these grants.

Non-Federal Share Required

Applicants must include as part of their application submission a commitment for an amount in cash non-Federal share equal to the amount of the Federal grant requested, contingent only on the award of the grant. As explained in Part II Section H of this Announcement, to be considered for funding an Application must include a copy of an executed “Non-Federal Share Agreement” as described in that section, including a schedule of payments and other relevant information. If the applicant is itself committing any of the non-Federal share, then it must include a “Statement of Commitment” signed by the official signing the application and countersigned by the applicant's Board Chairperson or Treasurer. The Non-Federal Share Agreement and/or the Statement of Commitment must commit to payment of the full amount at the outset of the project, or must provide that the schedule of deposits will be coordinated with the opening of all accounts so as to assure that accounts will only be opened when there are sufficient funds on hand and in the bank to meet the total amount of matching contributions pledged to those accounts during their lifetime and until they reach maturity.

Program Requirements as Set Out in This Program Announcement and the AFI Act

The Federal grant and the non-Federal cash are together deposited by the grantee in a Reserve Fund in an insured Financial Institution, normally a bank or a credit union. Once the non-Federal share funds are deposited in the Reserve Fund, the grantee may draw down an equal amount of its grant funds for deposit in the Fund. (If the entire amount of required non-Federal share is deposited in the Fund at the outset of the project, the grantee may draw down the entire grant at that time.) Over the ensuing five years 15% of the money in that Reserve Fund may be used by the grantee for project administration, participant support (which must include Financial Literacy/Budget Management Education) and collection of data for the government's evaluation of the program. At least 85% of the money in the Reserve Fund must be used to match the investment of savings from earned income in IDA's by project participants, which must be done no less often than every three months. Under the AFI Act the matched savings in the IDA may be used for acquisition of three assets:

• The purchase or building of a first home,

• The capitalization of a business, or

• The costs of post-secondary education.

Until funds are allocated to an IDA as matching contributions, interest they earn in the Reserve Fund is considered program income and may be used by the grantee for project administration and support services. Once funds are allocated to an IDA account, interest on those funds goes to that account.

Participant Eligibility

Households eligible to participate in the project are those eligible for TANF or the Earned Income Tax Credit (EITC), or whose income over the previous year was less than 200% of the poverty line as provided in Section 408(a)(1) of the AFI Act. (The most recent EITC income guidelines set eligibility at $27,413 for a household with one child, and $31,152 for a household with more than one child. At 200% of the most current Poverty line, eligibility limits are $35,206 for a family of four, and $41,638 for a family of five. The latest poverty line figures can be found in Attachment L to this Announcement.) To be eligible, households must also be below the net worth limit of $10,000 excluding primary residence and one motor vehicle.

Project Design

An organization applying for a grant under this program should first consider who will make up its targeted client population. To be effective as a tool, the IDA should be accompanied by a range of supportive services, a support network through which, ideally, the participant is already working to strengthen his or her family's well-being. So if the applicant organization is already working with a group of clients, or constituents, these are the best candidates for recruitment into the IDA project. They already know and trust the organization, and they have the support of a network in place that will help assure success in following through with their plans and achieving their goals. If the applicant organization is not already working with lower income families and providing the supportive services important to success, then it should seek to establish working partnerships with other organizations that can provide access to a group of prospective IDA participants with whom they are working and to whom they can provide the needed support. (As noted above, this is a requirement for CDFI's and Credit Unions applying for AFIA grants.)

When participants are enrolled in the project they enter into a Savings Plan Agreement with the grantee as described in Part II Section G. (4)(g) of this Announcement. This agreement includes several things:

(1) It sets a savings/investment schedule of a certain amount to be deposited by the participant in the IDA at regular intervals;

(2) It sets a goal of a total amount to be invested over that time;

(3) It identifies the asset to be acquired; and

(4) It sets the match rate by which the participant's investment will be matched by contributions from the Reserve Fund, which may be anywhere from one dollar to eight dollars for each dollar the participant puts into the IDA account. (Most projects use a match rate of one, two, or three to one.)

Under the AFIA, the maximum Federal matching contribution to one individual is $2000, which must be deposited with an equal amount of non-Federal dollars, which brings the total maximum amount of matching contribution from the Reserve Fund to $4000. The law also sets a maximum Federal matching contribution per household of $4000, for a total of $8000 from the Reserve Fund (to two or more accounts, or to a Joint Account owned by Husband and Wife).

Elements of a Successful Application

In putting together a successful application the following must be provided in order for the application to be considered for funding:

• A firm, written commitment of the required cash non-Federal share in an amount equal to the grant being requested, as a statement signed by officers of the applicant, or as part of a signed Non-Federal Share Agreement if the commitment is made by a third party; (See Part II Section H. of this Announcement.)

• Proof of 501(c)(3) tax-exempt status of the applicant (or joint applicant), if other than a CDFI or eligible Credit Union;

• A written, signed agreement with the partnering insured Qualified Financial Institution in which the Reserve Fund and Individual Development Accounts are to be opened, describing how the accounts are to be managed and the role of the financial institution in this process. If the applicant is a CDFI or an eligible Credit Union, in which the accounts will be maintained, they must instead include a written, signed Statement of Policy covering the same issues. See Part III (I), Project Element II(c);

• A completed Federal Standard Form 424, signed by an authorized official of the applicant;

• Completed Forms 424A and 424B and a Budget Justification; and

• A Project Narrative/Description of not more than 30 pages which responds to the Project Elements and Review Criteria set out in Part III Section I, Evaluation Criteria 1 through 7 of this Program Announcement.

Finally, where an applicant is proposing to be the lead agency or organization in a consortium or collaborative of agencies or organizations which together will be carrying out the project to be funded, the application must include signed agreements between the collaborating organizations describing how each will participate in carrying out the project.

There are over 300 IDA programs of various designs operating today in different communities across the country. Most are quite new and all are in the process of learning what design features work best with a variety of circumstances and target populations. Applicants are encouraged to contact these programs to see what might be learned from their experiences: what pitfalls to avoid, what successes might be emulated or adapted. An excellent source of information and discussion about existing IDA programs is the website operated by the Corporation for Enterprise Development (CFED), and its “IDA Learning Network” and related ListServe. These can be reached at www.idanetwork.org. In addition, information about the OCS Demonstration Division IDA program is found at www.acf.dhhs.gov/programs/ocs/demo, where names and addresses for all of the currently funded AFIA demonstration projects can be found. The contractor's website at www.pwieast.com has the same information. Those wishing to learn more about the original theory of the need for and value of IDA's should read the book Assets for the Poor by Michael Sherraden, creator of the IDA concept.

Potential applicants are reminded, however, that OCS IDA projects funded pursuant to the AFI Act have specific limitations and requirements on program content and use of funds that may not be found in other IDA programs. Therefore, applicants must become familiar with the OCS requirements set out below and design their projects accordingly.

B. Legislative Authority

The Assets for Independence Demonstration Program (IDA Program) was established by the Assets for Independence Act (AFI Act), under Title IV of the Community Opportunities, Accountability, and Training and Educational Services Act of 1998 (Pub. L. 105-285, 42 U.S.C. 604 Note), as amended.

C. Program Purpose

The purpose of the program is, in the language of the AFI Act: to provide for the establishment of demonstration projects designed to determine:

(1) The social, civic, psychological, and economic effects of providing to individuals and families with limited means an incentive to accumulate assets by saving a portion of their earned income;

(2) The extent to which an asset-based policy that promotes saving for postsecondary education, homeownership, and microenterprise development may be used to enable individuals and families with limited means to increase their economic self-sufficiency; and

(3) The extent to which an asset-based policy stabilizes and improves families and the community in which the families live.

D. Project Goals

The ultimate goals of the projects to be funded under the Assets for Independence Demonstration Program are:

(1) To create, through project activities and interventions, meaningful asset accumulation opportunities for households eligible for Temporary Assistance for Needy Families (TANF) and other eligible individuals and working families.

(2) To evaluate the projects to demonstrate the effectiveness of these activities and interventions and of the project designs through which they were implemented, and the extent to which an asset-based program can lead to economic self-sufficiency of members of the communities served through one or more qualified expenses; and

(3) Thus to make it possible to determine the social, civic, psychological, and economic effects of providing to individuals and families with limited means an incentive to accumulate assets by saving a portion of their earned income, and the extent to which an asset-based policy stabilizes and improves families and the community in which the families live.

E. Program Evaluation

Section 414 of the Assets for Independence Act requires that the Secretary enter into a contract with an independent research organization to evaluate the demonstration projects conducted under the Act, individually and as a group, including evaluating all qualified entities participating in and sources providing funds for the demonstration projects conducted under the AFI Act. To support this evaluation, the AFI Act also provides that not less than 2% of Federal grant funds be used by grantees to provide the independent research organization with such information regarding the demonstration project as may be required for the evaluation. The Secretary has contracted with Abt Associates, Inc., in Cambridge, Massachusetts, to carry out the required evaluation. OCS and ACF's Office of Planning, Research and Evaluation (OPRE) have worked together with the contractor in the development of an evaluation design whose implementation began in the Spring of 2001.

Section 414 also lists the factors to be addressed by the research organization in its evaluation, which include:

(1) The effect of incentives and institutional support on savings behavior;

(2) The savings rates of individuals based on demographic characteristics and income;

(3) The economic, civic, psychological and social effects of asset accumulation and how such effects vary among different populations or communities;

(4) The effects of IDA's on savings rates, home ownership, level of post secondary education attained, and self-employment, and how such effects vary among different populations or communities;

(5) The potential financial returns to the Federal Government and to other public and private sector investors in IDA's over a 5 and 10 year period;

(6) The lessons to be learned from the demonstration projects and if a permanent program of IDA's should be established; and

(7) Such other factors as the Secretary may prescribe.

The section then stipulates that in evaluating any demonstration project under the AFI Act, the research organization shall, before, during and after the project, obtain such quantitative data as are necessary to evaluate the program thoroughly. To this end OCS and its technical assistance contractor, PeopleWorks, Inc., have worked with ACF's Office of Planning Research and Evaluation (OPRE) and Abt Associates to develop a reporting format for AFIA grantees, and hope to make available to all grantees an Asset Development Information System to facilitate the maintenance, collection, verification and reporting of the data. In addition, section 414 directs the research organization to develop a qualitative assessment, derived from sources such as in-depth interviews, of how asset accumulation affects individuals and families.

Section 414 of the AFI Act, as amended, further provides that of the funds appropriated for each Fiscal Year, beginning with FY 2001, up to $500,000 will be available to carry out the evaluation.

F. Definition of Terms

For the purposes of this Announcement:

(1) AFI Act means the Assets for Independence Act (Title IV of the Community Opportunities, Accountability, and Training and Educational Services Act of 1998, as amended) which authorizes this program.

(2) Custodial Account means an alternative structure to a Trust for the establishment of an Individual Development Account, as described in PART II. G.(5).

(3) Eligible Individual means an individual who meets the income and net worth requirements of the program as set forth in PART II, Section G(3)(a) below.

(4) Emergency Withdrawal means a withdrawal of only those funds, or a portion of those funds, deposited by the eligible individual (Project Participant) in an Individual Development Account of such individual. Such withdrawal must be approved by the Project Grantee, must be made for an allowable purpose as defined in the AFI Act and under the Project Eligibility Requirements set forth in PART II of this Announcement, and must be repaid by the individual Project Participant within 12 months of the withdrawal. (See Part II, Section G.(7)(b))

(5) Household means all individuals who share use of a dwelling unit as primary quarters for living and eating separate from other individuals.

(6) Individual Development Account (IDA) means a trust or a custodial account created or organized in the United States exclusively for the purpose of paying the qualified expenses of an eligible individual, or enabling the eligible individual to make an emergency withdrawal, but only if the written governing instrument creating the trust or custodial account meets the requirements of the AFI Act and of the Project Eligibility and Requirements set forth in this Announcement. (See Part II. Section G. (4) and (5).)

(7) Net Worth of a Household means the aggregate market value of all assets that are owned in whole or in part by any member of the household, exclusive of the primary dwelling unit and one motor vehicle owned by a member of the household, minus the obligations or debts of any member of the household.

(8) Project Grantee means a Qualified Entity as defined in paragraph (11) below, which receives a grant pursuant to this Announcement.

(9) Project Participant means an Eligible Individual as defined in paragraph (3) above who is selected to participate in a demonstration project by a qualified entity.

(10) Project Year means, with respect to a funded demonstration project, any of the 5 consecutive 12-month periods beginning on the date the project is originally awarded a grant by ACF.

(11) Qualified Entity means an entity eligible to apply for and operate an assets for independence demonstration project as one or more not-for-profit 501(c)(3) tax exempt organizations, or a State or local government agency or a tribal government submitting an application jointly with such a not-for-profit organization, or an entity that—

(I) Is—

(a) A credit union designated as a low-income credit union by the National Credit Union Administration (NCUA); or

(b) An organization designated as a community development financial institution (CDFI) by the Secretary of the Treasury (or the Community Development Financial Institutions Fund); and

(II) Can demonstrate a collaborative relationship with a local community-based organization whose activities are designed to address poverty in the community and the needs of community members for economic independence and stability.

(12) Qualified Expenses means one or more of the expenses for which payment may be made from an individual development account by a project grantee on behalf of the eligible individual in whose name the account is held, which are limited to expenses of (A) post-secondary education, (B) first home purchase, (C) business capitalization, and/or (D) transfers of IDA's to family members, as defined below:

(A) Post-Secondary Educational Expenses means post-secondary educational expenses paid from an individual development account directly to an eligible educational institution, and include:

(i) Tuition and Fees required for the enrollment or attendance of a student at an eligible educational institution.

(ii) Fees, Books, Supplies, and Equipment required for courses of instruction at an eligible educational institution, including a computer and necessary software.

(iii) Eligible Educational Institution means the following:

(I) Institution of Higher Education.—An institution described in Section 101 or 102 of the Higher Education Act of 1965.

(II) Post-Secondary Vocational Education School.—An area vocational education school (as defined in subparagraph (C) or (D) of section 521(4) of the Carl D. Perkins Vocational and Applied Technology Education Act (20 U.S.C. 2471(4)) which is in any State (as defined in section 521(33) of such Act) as such sections are in effect on the date of enactment of the AFI Act.

(B) First-Home Purchase means qualified acquisition costs with respect to a principal residence for a qualified first-time homebuyer, if paid from an individual development account directly to the persons to whom the amounts are due. Within this definition:

(i) Principal Residence means a main residence, the qualified acquisition costs of which do not exceed 120 percent of the average purchase price applicable to a comparable residence in the area.

(ii) Qualified Acquisition Costs means the cost of acquiring, constructing, or reconstructing a residence, including usual or reasonable settlement, financing, or other closing costs.

(iii) Qualified First-Time Homebuyer means an individual participating in the project involved (and, if married, the individual's spouse) who has had no present ownership interest in a principal residence during the 3-year period ending on the date on which a binding contract is entered into for purchase of the principal residence to which this subparagraph applies.

(C) Business Capitalization means amounts paid from an individual development account directly to a business capitalization account that is established in a Qualified Financial Institution and is restricted to use solely for qualified business capitalization expenses of the eligible individual in whose name the account is held. Within this definition:

(i) Qualified Business Capitalization Expenses means qualified expenditures for the capitalization of a qualified business pursuant to a qualified plan, when so certified by a Qualified Entity (Grantee) as meeting the requirements of sub-paragraphs (ii), (iii), and (iv) below.

(ii) Qualified Expenditures means expenditures included in a qualified plan, including but not limited to capital, plant, equipment, working capital, and inventory expenses.

(iii) Qualified Business means any business that does not contravene any law or public policy (as determined by the Secretary).

(iv) Qualified Plan means a business plan, or a plan to use a business asset purchased, which—

(I) Is approved by a financial institution, a microenterprise development organization, or a nonprofit loan fund having demonstrated fiduciary integrity;

(II) Includes a description of services or goods to be sold, a marketing plan, and projected financial statements; and

(III) May require the eligible individual to obtain the assistance of an experienced entrepreneurial advisor.

(D) Transfers to IDAs of Family Members—Amounts paid from an individual development account directly into another such account established for the benefit of an eligible individual who is—

(i) The individual's spouse; or

(ii) Any dependent of the individual with respect to whom the individual is allowed a deduction under section 151 of the Internal Revenue Code of 1986.

(13) Qualified Financial Institution means a Federally insured Financial Institution, or a State insured Financial Institution if no Federally insured Financial Institution is available.

(14) Qualified Savings of the Individual for the Period means the aggregate of the amounts contributed by an eligible individual from earned income to the individual development account of the individual during the period.

(15) Secretary means the Secretary of Health and Human Services, acting through the Director of the Office of Community Services.

(16) Tribal Government means a tribal organization, as defined in section 4 of the Indian Self-Determination and Education Assistance Act (24 U.S.C. 450b) or a Native Hawaiian organization, as defined in section 9212 of the Native Hawaiian Education Act (20 U.S.C. 7912).

(17) Trust Agreement means the instrument by which an Individual Development Account is established as a trust in the partnering Financial Institution under PART II Section G.(4).

(18) Trustee means the Qualified Financial Institution responsible for management of an Individual Development Account established as a trust pursuant to a Trust Agreement.

Part II. Program Objectives and Requirements

The Office of Community Services (OCS) invites qualified entities to submit competing grant applications for new demonstration projects that will establish, support, manage, and participate in the evaluation of Individual Development Accounts for eligible participants among lower income individuals and working families.

A. Program Area

There is one Program Area under this program for Fiscal Year 2002, under which OCS will accept applications from Qualified Entities as described below in Section B.

(Continuation of grants to Pennsylvania and Indiana, funded under Priority Area 2.0 of the Fiscal Year 1999 Assets For Independence Program Announcement will not require applications in response to this Program Announcement; but will be the subject of direct correspondence between OCS and the grantees as noted in Section F below.)

B. Eligible Applicants

(1) In General

Eligible applicants for the Assets for Independence Demonstration Program are Qualified Entities, as defined above in Part I, Section F.(11), and are one or more not-for-profit 501(c)(3) tax exempt organizations, or a State or local government agency or a tribal government submitting an application jointly with such a not-for-profit organization, or an entity that—

(I) Is—

(a) A credit union designated as a low-income credit union by the National Credit Union Administration (NCUA); or

(b) An organization designated as a community development financial institution by the Secretary of the Treasury (or the Community Development Financial Institutions Fund); and

(II) Can demonstrate a collaborative relationship with a local community-based organization whose activities are designed to address poverty in the community and the needs of community members for economic independence and stability.

501(c)(3) Tax exempt Faith-Based organizations are eligible to apply for these grants.

Not-for-profit Applicants, including those filing jointly with government agencies or Tribal Governments, must provide documentation of their tax exempt status in order to receive grants under this Announcement. The applicant can accomplish this by providing a copy of the applicant's listing in the Internal Revenue Service's (IRS) most recent list of tax-exempt organizations described in section 501(c)(3) of the IRS code or by providing a copy of their currently valid IRS tax exemption certificate. Grants will not be awarded to applicants which have not supplied evidence of currently valid section 501(c)(3) tax exempt status. Similarly, eligible credit unions and CDFI's must provide written documentation of their status and evidence of their collaborative relationship with an appropriate local community-based organization.

(2) Applications Submitted Jointly by State or Local Government Agencies or Tribal Governments and Tax Exempt Non-Profit Organizations

Joint applications by government agencies and non-profit organizations must clearly identify the joint applicants; and the SF 424 Application for Federal Assistance must be signed by one of the joint applicants. The applicant signing the SF 424 will be responsible for proper implementation of the grant in accordance with the approved work program and the terms and conditions of the grant. (It may be either the government agency applicant or a non-profit applicant).

In either case, a Reserve Fund must be established for the Project either by the government agency/tribal government joint applicant or by the non-profit joint applicant, and maintained and managed as agreed by the Joint Applicants in the Joint Application Agreement. The Reserve Fund must be established in accordance with Section G, Paragraphs (1) and (2), below.

Such joint applications must also include:

(a) Proof of tax exempt status of the non-profit Joint Applicant, as described in Paragraph (1), above; and

(b) A Joint Applicant Agreement, signed by the responsible officials of both Joint Applicants, setting forth the responsibilities of each Joint Applicant for implementation of the proposed project, including establishment, management, and oversight of the Reserve Fund, and the carrying out of the project activities and interventions described in Element II of the proposal narrative. (See Part III, below.) The Joint Applicant Agreement should be the first Appendix to the Application, and the responsibilities it sets out should be described in the Project Narrative under Elements I and II, Section I Evaluation Criteria, in Part III of this Announcement.

Where the project includes a group or consortium of operating partners, the project may include both a central and local Reserve Funds as described below in Section G Paragraph (1), Reserve Fund, Note.

(3) Applications Submitted by a Lead Agency on Behalf of a Consortium of Partnering Organizations

Where the Applicant is applying as the lead agency for a consortium or group of partnering organizations, each of these organizations and their relevant experience must be briefly described in the Application narrative, and background materials citing their relevant experience and staff capabilities should be included in the Appendix.

In such cases:

—The Applicant/Lead Agency should document its capability and experience in managing such consortia;

—The roles and responsibilities of all participating agencies should be clearly set forth in signed Partnering Agreements between the Applicant and each of the partnering members;

—Copies of the Partnering Agreements should be included in the Appendix; and, in addition;

—The roles and responsibilities of each participating agency clearly explained in Part III, Element I and Element II(b), Project Design, and reflected in the Work Plan under Element II(d). These explanations must include the plans for establishing one or more Reserve Fund(s), and how and where IDA Accounts and Parallel Match Accounts will be maintained, as reflected in the Financial Institution Agreement(s)/Statement of Policy under Part III, Element II(c). (See also Section G. Paragraph (1) Reserve Fund, and Section L, Agreements with Partnering Financial Institutions/Statements of Policy below.)

C. Project and Budget Periods

This announcement is inviting applications for project and budget periods of five (5) years. Grant actions, on a competitive basis, will award funds for the full five year project and budget period. As noted below in Section E., subject to the availability of funds, grantees may be offered the opportunity to submit applications for additional funding in later years during the five-year project.

Note: Applicants should be aware that OCS funds awarded pursuant to this Announcement will be from FY 2002 funds and may not be expended after the end of the five-year Project/Budget Period to support administration of the project or matching contributions to Individual Development Accounts which may be open at that time. Consequently, Applicants should consider carefully the length of time participants will need to achieve their savings/investment goals and at what point in the project they may wish to discontinue the opening of new accounts. Applicants must provide assurance that in every case provision will be made for payment of all promised matching contributions to IDA accounts opened by project participants in the course of the demonstration project. In order to assure such payment, no accounts may be opened unless there are at the time accounts are opened sufficient funds in the Reserve Fund needed to make the total amount of matching contributions pledged to those accounts during their lifetime until they reach maturity. This means that, as noted below, non-Federal share funds, if not deposited in full at the beginning of the project, must be deposited on a schedule consistent with the planned schedule of new account opening.

D. Funds Availability and Grant Amounts

In Fiscal Year 2002 OCS expects approximately $20 million to be available for funding commitments to approximately 50 new projects, including grants to existing grantees as explained below in Section E, expected to average approximately $400,000 each, and not to exceed $1,000,000 each for the five-year project and budget periods. As noted below, in Paragraph J, Multiple Applications, Qualified Entities may submit more than one application for different demonstration projects and each such application will be reviewed competitively with all other applications submitted pursuant to this Announcement and may be funded in accordance with the reviewer ratings and other factors as described below in Part IV Sections D and E, Initial Screening and Consideration of Applications. Each such Application must be a request for a separate and distinct project, with completely distinct and separate budgets, project participants, and IDA's being funded; and each Application must fully comply with the provisions of this Part, and fully respond to all of the Program Elements and Evaluation Criteria set out in Part III, below. Applicants are reminded that grant awards are limited to the amount of committed non-Federal cash matching contributions; and that OCS recognizes that this is a limiting factor in the amount of grant funds requested. Applicants are assured that OCS will welcome requests for less than the maximum grant amounts, and are urged to make realistic projections of project activity over the five year project and propose project budgets accordingly. As in the past, subject to the availability of funds and the progress of individual demonstration projects, grantees that have raised additional cash non-Federal share contributions may be given the opportunity to request additional funding in FY 2003 for new five-year projects. Draw-down of grant funds over the five-year budget period may be made in amounts that will match non-Federal deposits into the Project Reserve Fund. However, it must be remembered that all IDA accounts must reach maturity and be paid out by the end of the five year project/budget period, so that if the average participant requires two years to complete his or her savings plan, no new accounts can be opened after the third year of the project. This means that all Federal and non-Federal share dollars must be deposited into the Reserve fund by the end of the third project year. (See Section G. (1)(a) and Section H, below).

E. Funds Availability for Additional Grants to FY 1999, 2000, and 2001 Grantees

As noted above in Section F, existing grantees may apply for up to $1 million for a new five-year project. Applications from these grantees will be reviewed competitively with other applications received pursuant to this Announcement.

F. Funds Availability and Grant Amounts for Continuation Funding of Grandfathered State Grantees (FY 1999 Priority Area 2.0 Grantees: Indiana and Pennsylvania)

In Fiscal Year 2002 up to approximately $2 million is expected to be available for up to two continuation grants not to exceed $1 million each for the fourth budget year of a five-year State project funded under Priority Area 2.0 of the FY 1999 Assets for Independence Program Announcement. These continuation of grants will not require applications pursuant to this Program Announcement; but will be the subject of direct correspondence between OCS and the grantees. Any funds not expended in FY 2002 for these Continuation Grants will be available for new project grants as described above in Sections D and E.

G. Project Eligibility and Requirements

To be eligible for funding, projects must be sponsored and managed by Qualified Entities and must meet the following requirements:

(1) Reserve Fund

Every project funded under this Announcement must establish and maintain a Reserve Fund in accordance with this paragraph. Such Reserve Fund must be maintained in accordance with the accounting regulations prescribed by the Secretary under 45 CFR Parts 74 and 92, in a Qualified Financial Institution or other insured financial institution satisfactory to the Secretary.

Note: Where an applicant is lead agency for a consortium or group of partnering organizations, each of which will be implementing an IDA program under the Applicant's grant pursuant to this Announcement, the Applicant/lead agency must maintain a Reserve Fund into which all required non-Federal share matching contribution funds and OCS grant funds shall be deposited in accordance with Paragraph (a), below. The consortium has two alternatives for maintenance of Reserve Fund(s) in its IDA programs:

First, participating organizations may all operate out of the one central Reserve Fund maintained by the Applicant/lead agency. In this case separate accounting structures would be maintained for each of the partnering organizations and the funds assigned for their use in accordance with agreements between the Applicant and each organization.

Or second, in addition to the Central Reserve Fund, partnering organizations may each establish a local Reserve Fund in their community into which the Applicant-/lead agency will deposit from the Central Reserve Fund the funds (grant and non-Federal share) allocated for use by the particular organization. Central and local Reserve Funds will be subject to all of the requirements of this Section. Whatever the arrangement, it must be spelled out and agreed to in the Partnering Agreements between the Applicant and each consortium member required under Section B. Paragraph (3), above.

(a) Amounts in the Reserve Fund. As soon after receipt as is practicable, grantees shall deposit in the Reserve Fund the required non-Federal share funds received pursuant to the “Non-Federal Share Agreement” or Agreements reached with the provider(s) of non-Federal matching contributions. Once such non-Federal funds are deposited in the Reserve Fund, grantees may draw down OCS grant funds in amounts equal to such deposits. Similarly, as soon after receipt as practical, grantees shall deposit in the Reserve Fund the income received from any investment made of those funds (see paragraph (d) below).

(b) Use of Amounts in the Reserve Fund. In accordance with Section 407(c) of the AFI Act, Qualified Entities (grantees) shall use the amounts in the Reserve Fund as follows:

(i) In General.—A qualified entity shall use the amounts in the Reserve Fund * * * to—

(A) assist participants in the demonstration project in obtaining the skills (including economic literacy, budgeting, and counseling skills) and information necessary to achieve economic self-sufficiency through activities requiring qualified expenses;

(B) provide deposits (as matching contributions, equally divided between federal and non-federal monies) to individual development accounts for project participants, in an agreed upon ratio to deposits made in those accounts by project participants from earned income;

(C) administer the demonstration project; and

(D) provide the research organization evaluating the demonstration project * * * with such information with respect to the demonstration project as may be required for the evaluation.

(ii) Limitation on Uses.—Not more than 15 percent of AFIA Federal grant funds shall be used by the qualified entity (grantee) for the purposes described in subparagraphs (A), (C), and (D) of paragraph (1), of which not less than 2 percent of the grant funds shall be used for the purposes described in paragraph (1)(D). Of the total amount of 15 percent of grant funds, not more than 7.5 percent of such funds shall be used for administrative functions under paragraph (1)(C), including program management, reporting requirements, recruitment and enrollment of individuals, and monitoring. The remainder of the total amount of 15 percent of grant funds (not including the 2 percent specified under paragraph (1)(D)) shall be used for nonadministrative functions described in paragraph (1)(A), including case management, budgeting, economic literacy, and credit counseling. If the cost of nonadministrative functions described paragraph (1)(A) is less than 5.5% of the total of Federal grant funds, such excess funds may be used for administrative functions. If two or more qualified entities (grantees) are jointly administering a project, no qualified entity shall use more than its proportional share of grant funds for the purposes described in subparagraphs (A), (C), and (D) of paragraph (1).

(iii) Matching Contributions to IDA's.—Thus, at least 85 percent of AFIA Federal grant funds and an equal amount of the required non-Federal share funds in the Reserve Fund shall be used to make matching contributions, equally divided between Federal and non-Federal monies, to individual development accounts for project participants, in an agreed upon ratio to deposits made in those accounts by project participants from earned income. The remaining balance of up to 15% of the required matching non-Federal share funds shall be used either for expenses outlined in Paragraphs (A), (C) and (D) above, or other project-related expenses as agreed by the Applicant and the entity providing the funds.

Note: If a grantee mobilizes additional contributions in excess of the required 100 percent non-Federal share match, such funds may be used however the grantee and provider of the funds may agree. Where the use of such funds is proposed within a Program Element/Proposal Review Criterion which formed the basis for the grant award, Grantees will be held accountable for commitments of such additional mobilized funds and additional resources, even though over the amount of the required non-Federal match.

(c) Authority to Invest Funds. A grantee shall invest the amounts in its Reserve Fund that are not immediately needed for payment under paragraph (b), in a manner that provides an appropriate balance between return, liquidity, and risk, and in accordance with Guidelines which will be issued by the Secretary prior to making of grant awards and provided to grantees at the time of grant award.

(d) Use of Investment Income. Income generated from investment of Reserve Fund monies that are not allocated to existing Individual Development Accounts may be added by grantees to the funds committed to program administration, participant support, or evaluation data collection. As noted in Section K, below, once funds have been committed as matching contributions to Individual Development Accounts, then any income subsequently generated by such funds must be deposited/credited to the credit of such accounts. Note: No part of such income is to be considered as a Federal funds contribution subject to the $2000/$4000 limitations under Paragraph (6)(c), below.

(e) Joint Project Administration. If two or more qualified entities are jointly administering a project, none shall use more than its proportional share for the purposes described in subparagraphs (A) and (C), of paragraph (b) (Support Services and Administration).

(2) Use of Grant Funds by State and Local Government Agencies and Tribal Governments

As set forth in Section B. Paragraph (2) above, grantees who are State or local government agencies or Tribal governments are required to submit applications jointly with tax exempt non-profit organizations. In such cases, whether the lead applicant signing the SF 424 is the government agency or the non-profit organization, a Reserve Fund for the Project must be established, and maintained, and managed as agreed by the Joint Applicants in their Joint Application Agreement. The Reserve Fund so established shall be subject to the requirements of Paragraph (1) above, and Section H, below.

(3) Eligibility and Selection of Project Participants

(a) Participant Eligibility. Eligibility for participation in the demonstration projects is limited to individuals who are members of households eligible for assistance under TANF, or of households whose adjusted gross income does not exceed the earned income amount described in Section 32 of the Internal Revenue Code of 1986, which establishes eligibility for the Earned Income Tax Credit (EITC) (taking into account the size of the household), or of households whose annual income does not exceed 200% of the poverty line as provided in Section 408(a)(1) of the AFI Act, and whose net worth as of the end of the calendar year preceding the determination of eligibility does not exceed $10,000, excluding the primary dwelling unit and one motor vehicle owned by a member of the household.

Note: The most recent EITC Earned Income Guidelines which set the limits on annual income for eligibility in the IDA Program are as follows:

—for a household without a child: $10,380

—for a household with one child: $27,413.

—for a household with more than one child: $31,152.

The most recent final Poverty line thresholds are set forth in Attachment L to this Announcement. Annual revisions of these thresholds are normally issued by the Bureau of the Census in September. Where relevant to IDA Project criteria, grantees will be required to apply the most recent thresholds throughout the project period. These revised thresholds may be obtained as part of the latest Census Bureau Report, “Poverty in the United States”. The thresholds may be found on the web at http://www.census.gov/hhes/poverty/threshld.html.

Note: where the website shows a heading for preliminary thresholds for a given year, click on the preceding year for the current final thresholds. The thresholds will also be accessible on the OCS WEBSITE for reading and/or downloading (http://www.acf.dhhs.gov/programs/ocs).

Applicants are reminded that there is also a net worth assets test for eligibility in the program, as noted above.

(b) Participant Selection. In keeping with the statutory preference in Section 405(d)(3) of the AFI Act for applications that target individuals from neighborhoods or communities that experience high rates of poverty or unemployment, grantees in their selection of Project Participants may restrict participation in such neighborhoods or communities targeted by their demonstration projects to individuals and households with lower incomes and net worth than set forth above, provided that they shall nonetheless select individuals who they determine are well suited to participate in the demonstration project.

(4) Establishment of Individual Development Accounts

Project Grantees must create, through written governing instruments, either (a) Trusts, under this paragraph, or (b) Custodial Accounts described here and in Paragraph (5) below, which will be Individual Development Accounts on behalf of Project Participants. Trustees of Trusts must be Qualified Financial Institutions. Custodians of Custodial Accounts may be Qualified Financial Institutions, other insured financial institutions satisfactory to the Secretary, or Demonstration Project Grantees. In every case the Participant shall make deposits from earned income into his or her Individual Development Account in a participating insured financial Institution, which in the case of Qualified Entities which are eligible Credit Unions or CDFI's, may be the Qualified Entity itself.

No Individual Development Accounts shall be established or opened unless and until there are sufficient funds in the Grantee's Reserve Fund to make the total matching contributions pledged to those accounts during their lifetime until they reach maturity.

In every case where the participating insured financial institution and the Demonstration Project Grantee are not one and the same, both shall be parties to the written governing instruments creating the Trust or Custodial Account.

The written governing instruments creating the IDA accounts must contain the following provisions:

(a) All contributions to the accounts must be either in cash, by check, money order, or by electronic transfer of funds.

(b) The assets of the account will be invested in accordance with the direction of the Project Participant after consultation with the grantee and pursuant to the guidelines of the Secretary (which will be issued prior to the making of grant awards and made available to grantees at the time of grant award).

(c) The assets of the account will not be commingled with other property except in a common trust fund or parallel account or common investment fund.

(d) In the event of the death of the Project Participant, any balance remaining in the account shall be distributed within 30 days of the date of death to another Individual Development Account established for the benefit of an eligible individual as directed by the deceased Participant in the Savings Plan Agreement under sub-paragraph (g), below; provided, that Participants may at their option direct the disposition of any funds in the account which were deposited in the account by the Participant as he or she may see fit, except that where such disposition is not to another Individual Development Account, all matching contributions made by the grantee to the account, and any income earned thereby, shall be returned to the Reserve Fund. [Note that this will mean that each Project Participant must provide such direction at the time the Individual Development Account is established. Provision should be made by grantees for modification of such directions during the course of the project, in the event of changing circumstances.]

(e) Except in the case of the death of the Project Participant, amounts in the account attributable to deposits by the grantee from grant funds and matching non-Federal contributions, and any interest thereon, may be paid, withdrawn or distributed out of the account only for the purpose of paying Qualified Expenses of the Project Participant including transfers under Paragraph (7)(d), below.

(f) The procedures governing the withdrawal of funds from the Individual Development Account, for both Qualified Expenses and Emergency Withdrawals, must comply with the provisions of Paragraph (7) Withdrawals from Individual Development Accounts, below.

(g) A “Savings Plan Agreement” between the grantee and the Project Participant, which may be incorporated by reference, and which should include:

(1) Savings goals (including a proposed schedule of savings deposits by the Participant from earned income, which may be for a period of less than five years);

(2) The rate at which participant savings will be matched (from one dollar to eight dollars for each dollar in savings deposited by Participant, the Federal grant funds portion of which may not exceed $2000 during the five-year project period);

(3) The proposed qualified expense for which the account is maintained;

(4) Agreement by the grantee to provide and the Participant to attend classes in Economic Literacy Training;

(5) Any additional training or education related to the qualified expense which the Grantee agrees to provide and of which the Participant agrees to partake;

(6) Contingency plans in the event that the Participant exceeds or fails to meet projected savings goals or schedules;

(7) Any agreement as to investments of assets described in subparagraph (b), above;

(8) An explanation of withdrawal procedures and limitations, including the consequences of unauthorized withdrawal;

(9) Provision for disposition of the funds in the account in the event of the Participant's death (see sub-Paragraph (d), above); and

(10) Provision for amendment of the Agreement with the concurrence of both Grantee and Participant.

(5) Custodial Accounts

As provided in Paragraph (4), above, Grantees may, in the alternative, create, through written governing instruments, Custodial Accounts which shall be Individual Development Accounts on behalf of Project Participants, except that they will not be trusts. As in the case of trusts established under paragraph (4), the written governing instruments creating the accounts must contain the requirements outlined in subparagraphs (a) through (g) of that paragraph, with the following exceptions. Whereas trustees of the trusts created under Paragraph (4) must be Qualified Financial Institutions, the assets of the custodial account may be held by a bank or another institution that demonstrates to the satisfaction of the Secretary that the manner in which the account will be administered will be consistent with the provisions of the AFI Act, and that the IDA's will be created and maintained as described in paragraph (4) and section 404(5)(A) of the AFI Act. In addition, in the case of a custodial account treated as a trust by reason of this paragraph, the custodian of such account may be the Project Grantee, provided that it can assure compliance with the requirements of Paragraph (4) above, and section 404(5)(A) of the AFI Act. These arrangements would place the “custodial” responsibilities with the grantee, and relieve financial institutions of trustee obligations. The Secretary has determined that the assets of any such accounts must be held in an insured financial institution and be subject to the provisions of Paragraph L, below, pertaining to agreements between applicants/grantees and participating financial institutions.

Within the meaning of this OCS Program Announcement, IDA “Custodial Accounts” in which project participants deposit their savings may be solely owned by the participant and in the sole name of the participant. Funds in the account may only be expended for “Qualified Expenses” or an “Emergency Withdrawal” as defined in the AFI Act and this Program Announcement; and in keeping with this restriction, any withdrawals must be approved in writing by a responsible official of the project grantee. At the same time, if the participant requests approval for an “unauthorized withdrawal” of funds deposited by the participant into the account, that is, for other than a “Qualified Expense” or “Emergency Withdrawal” as defined in the AFI Act, and Part I, Section D (4) and (12), above, the project grantee must agree to approve such an “Unauthorized Withdrawal” of the participant's funds, with the explicit understanding on the part of both the grantee and the participant, that the participant thereby loses any matching funds credited to the account (including any accrued interest on the matching funds), and must exit the program.

(6) Deposits in Individual Development Accounts

(a) Matching Contributions. Not less than once every three months during the demonstration project grantees will make deposits into Individual Development Accounts as matching contributions to deposits from earned income made by Project Participants during the period since the previous deposit. Such deposits may be made either into the accounts themselves or into a parallel account maintained by the grantee in an insured financial institution (or in the grantee institution itself, in the case of grantees which are eligible Credit Unions or CDFI's). It is strongly recommended that matching contributions by grantees be deposited in parallel accounts maintained by financial institutions, rather that in the participants' IDA accounts, as a way of protecting matching contributions from possible attachment or other liability.

Note: Deposits made by Project Participants shall be deemed to have been made from earned income so long as the income earned (as defined in section 911(d)(2) of the Internal Revenue Code of 1986) during the period since the Participant's previous deposit in the account is greater than the amount of the current deposit. Section 911(d)(2) provides, in relevant part, “the term ‘earned income’ means wages, salaries, or professional fees, and other amounts received as compensation for personal services actually rendered”.

Matching contributions (as deposits to IDA accounts or to parallel accounts) must be made to IDA's in equal amounts from Federal grant funds and the non-Federal public and private funds committed to the project as described in Section H below, and sections 405(c)(4) and 406(b)(1) of the AFI Act. Such matching contribution deposits by grantees may be from $0.50 to $4 in non-Federal funds and an equal amount in Federal grant funds, for each dollar of earned income deposited in the account by the Project Participant in whose name the account is established. At the time matching contribution deposits are made, the grantee will also deposit into the Individual Development Account (or the parallel account) any interest or income that has accrued since the last deposit on amounts previously deposited in or credited to that IDA in the parallel account as matching contributions.

(b) Additional Matching Contributions. Once such equal matching contribution deposits are made, grantees may make additional matching contributions to IDA's from other non-Federal sources, or other Federal sources, such as TANF, where the legislation or policies governing such sources so permit. Such additional matching contributions would not be a use of funds falling within any Program Element/Proposal Review Criterion under Part III below, which formed the basis for the grant award, and as such, grantees will not be held accountable for their commitment to the project.

(c) Limitations on Matching Contributions. Over the course of the five year demonstration, not more than $2,000 in Federal grant funds shall be provided through matching contributions to any one individual; and not more than $4,000 shall be provided to IDA's in any one household. Such matching contributions of Federal grant funds must be matched, dollar-for-dollar, by matching contributions of non-Federal share dollars from the Reserve Fund. [As noted in Paragraph (1)(d), above, no part of any investment or interest income earned by monies in the Reserve Fund or a parallel account credited to the Participant is to be considered as a Federal funds contribution subject to this limitation.]

(7) Withdrawals From Individual Development Accounts

(a) Limitations. Under no circumstances may funds be withdrawn from an Individual Development Account earlier than six months after the initial deposit by a Project Participant in the account. Thereafter funds may be withdrawn from such account only upon written approval of the Project Participant and of a responsible official of the project grantee, and only for one or more Qualified Expenses (as defined in Part I) or for an Emergency Withdrawal. (See Paragraph (5) Custodial Accounts, above, for the Participant's right to make “unauthorized withdrawals” and the consequences thereof.)

(b) Emergency Withdrawals. An Emergency Withdrawal may only be of those funds, or a portion of those funds, deposited in the account by the Project Participant, and only for the following purposes:

(i) Expenses for medical care or necessary to obtain medical care for the Project Participant or a spouse or dependent of the Participant;

(ii) Payments necessary to prevent eviction of the Project Participant from, or foreclosure on the mortgage for, the principal residence of the Participant;

(iii) Payments necessary to enable the Project Participant to meet necessary living expenses (food, clothing, shelter—including utilities and heating fuel) following loss of employment.

(c) Reimbursement of Emergency Withdrawals. A Project Participant shall reimburse an Individual Development Account for any funds withdrawn from the account for an Emergency Withdrawal, not later than 12 months after the date of the withdrawal. If the Participant fails to make the reimbursement, the Project Grantee must transfer back to its Reserve Fund Federal and non-Federal matching contributions deposited into the account or a parallel account, and any income generated thereby. Any remaining funds deposited by the Project Participant (plus any income generated thereby) shall be returned to such Project Participant.

Applicants are urged to consider the establishment of a separate alternative crisis or emergency loan fund that can respond to participant emergencies without having them risk putting their IDA in jeopardy because of an inability to make reimbursement of an emergency withdrawal within the required time frame.

(d) Transfers to Individual Development Accounts of Family Members. At the request of a Project Participant, and with the written approval of a responsible official of the grantee, amounts may be paid from an individual development account directly into another such account established for the benefit of an eligible individual who is—

(i) The Participant's spouse, or

(ii) Any dependent of the Participant with respect to whom the Participant is allowed a deduction under section 151 of the Internal Revenue Code of 1986.

Note that such transfers may be made to individuals who in turn would become IDA project participants who would be able to use these funds for any of the Qualified Expenditures defined in Part I. Applicants are reminded of the limit of $4000 in Federal IDA matching contributions per household.

H. Cash Non-Federal Share Requirements

Applicants must submit firm commitments for at least one hundred percent of the requested OCS grant amount in cash non-Federal share. Public sector resources that can be counted toward the minimum required non-Federal share include funds from State and local governments, and funds from various block grants allocated to the States by the Federal Government provided that the authorizing legislation for these grants permits such use.

Note: Community Development Block Grant (CDBG) funds may be counted as non-Federal share; Community Services Block Grant (CSBG) FUNDS MAY NOT. With regard to State TANF funds, any State funds that comprise Maintenance Of Effort (MOE) funds under the TANF regulations may NOT be used as required non-Federal share under this Announcement. (But see discussion of Additional Matching Contributions in Section G (6)(b), above.)

To be considered for funding an Application must include a copy of an executed “Non-Federal Share Agreement”, or a “Statement of Commitment” as described below, in writing executed by the Applicant and the organization or organizations providing the required non-Federal matching contributions, signed for the organization by a person authorized to make a commitment on behalf of the organization, and signed for the Applicant by the person signing the SF424. Such Agreement(s) must include: (1) A commitment by the organization to provide the non-Federal funds contingent only on the grant award; and (2) if the non-Federal share funds are not to be provided in one sum at the outset of the project, an agreement as to the schedule of the opening of Individual Development Accounts by the Applicant, and the schedule of deposits of non-Federal share funds by the organization to the project's Reserve Fund, such that the two schedules will together assure that there will be at all times in the Reserve Fund non-Federal matching contribution funds sufficient to meet the total pledges of matching contributions under the “Savings Plan Agreements” for all Individual Development Accounts then open and being maintained by the grantee during their lifetime and until their maturity as part of the demonstration project.

Thus, for example, if the provider of non-Federal share only agrees to a fixed schedule of deposits, this non-Federal share requirement can be met by the Applicant agreeing to a schedule for opening new accounts that will assure that new IDA accounts will only be opened when there are sufficient funds in the Reserve Fund to meet the total amount of matching contributions pledged under the “Savings Plan Agreements” during the lifetime of the accounts until their maturity.

Note: Applicants are reminded that as explained in Section C (Project and Budget Periods), above, grant funds may not be expended after the 5-year budget/project period. Consequently, Applicants should consider carefully the length of time participants will need to achieve their savings/investment goals, and at what point in the project they may wish to discontinue the opening of new accounts. At that point, all required non-Federal share funds will have to have been deposited in the Reserve Fund, along with grant funds.

As noted above, the Applicant may itself commit to providing some or all of the required cash non-Federal share, by including a Statement of Commitment, on applicant letterhead, signed by the official signing the SF 424 and countersigned by the Applicant's Board Chairperson or Treasurer, that the non-Federal matching funds will be provided, contingent only on the OCS grant award, and that non-Federal share deposits to the Reserve Fund and the opening of Individual Development Accounts will be coordinated so that new accounts will only be opened when there are sufficient funds in the Reserve Fund to cover the total matching contribution requirements of the Savings Plan Agreements.

With regard to Applicants which are State or local government agencies or Tribal governments, submitting jointly with tax exempt non-profit organizations, note that under Section G. Paragraphs (1) and (2), above, Reserve Funds are required to be established as in other projects.

Note: OCS has determined that the strict legislative limitations on the use of Federal grant funds and of an equal amount of non-Federal share (under the recent amendments to the AFI Act, at least 85% of each must go toward matching contributions to Individual Development Accounts) mean that important training, counseling and support activities, critical to the success of a project, may best be supported by additional resources, both of the applicant itself and mobilized by the applicant in the community. Consequently, Applicants are encouraged to mobilize additional resources, which may be cash or in-kind contributions, Federal or non-Federal, for support of project administration and assistance to Project Participants in obtaining skills, knowledge, and needed support services. (See Part III, Element V) Applicants are reminded that they will be held accountable for commitments of such additional resources even if over the amount of the required non-Federal match.

I. Preferences

In accordance with the provisions of the AFI Act, in considering an application to conduct a demonstration project under this Announcement, OCS will give preference to an application that:

(1) Demonstrates the willingness and ability of the applicant to select eligible individuals for participation in the project who are predominantly from households in which a child (or children) is living with the child's biological or adoptive mother or father, or with the child's legal guardian.

Note: Applications that target TANF eligible households will be deemed to have met this preference.

(2) Provides a commitment of non-Federal funds with a proportionately greater amount of such funds committed from private sector sources; and

(3) Targets individuals residing within one or more relatively well-defined neighborhoods or communities (including rural communities) that experience high rates of poverty or unemployment.

Note: Applications which target residents of Empowerment Zones, Enterprise Communities, Public Housing, or CDFI Fund-designated Distressed Communities will be deemed to have met this preference. (For information on CDFI Fund designation of Distressed Communities applicants may visit the CDFI Help Desk Website at: http://www.cdfifundhelp.gov.)

Each of these preferences will be valued at 2 points in the Application Review process. Applicants meeting these preferences will be awarded 2 points for each preference met. (Preferences (1) and (3) fall under Proposal Element II(a); Preference (2) falls under Proposal Element V(a)). In the case of a consortium of organizations operating programs funded through a lead agency, if a majority of the participating organizations meet these legislative preferences, the Application as a whole will be awarded these points.

J. Multiple Applications

Qualified Entities may submit more than one application for different demonstration projects and each such application will be reviewed competitively with all other applications submitted pursuant to this Announcement and may be funded in accordance with the reviewer ratings and other factors as described below in Part IV Sections D and E, Initial Screening and Consideration of Applications. Each such Application must be a request for a separate and distinct project, with completely distinct and separate budgets, project participants, and IDA's being funded; and each Application must fully comply with the provisions of this Part, and fully respond to all of the Program Elements and Evaluation Criteria set out in Part III, below.

K. Treatment of Program Income

As noted in Section G. Paragraph (1)(d), above, income generated from investment of unallocated funds in the Reserve Fund may be added to the funds already committed from the Reserve Fund to program administration, participant support, or evaluation data collection. However, once funds have been committed as matching contributions to Individual Development Accounts, then any income subsequently generated by such funds must be deposited proportionately to the credit of such accounts.

Note: No part of such income is to be considered as a Federal funds contribution subject to the $2000/$4000 limitations under Section G. Paragraph (6)(c), above.

L. Agreements With Partnering Financial Institutions/Statements of Policy

One of the most critical parts of a successful IDA project is the relationship between the project operator and a partnering financial institution, be it a bank or credit union. Not only does the financial institution provide the situs of the Individual Development Accounts, but it also represents for IDA holders their doorway to mainstream economic life: savings and checking accounts, ATM machines, payroll deduction savings, home mortgages, and the opportunity for credit repair, student and business loans, all within a framework of sound financial planning. Moreover, many banks see non-Federal share contributions to the project's Reserve Fund as sound investments which not only offer them tax deductions and Community Reinvestment Act (CRA) credit, but also large stable long-term deposits, and which introduce them to a whole new body of potential long-term clients with strong support networks, whose IDA investments will bring them into the market for home mortgages and business and student loans.

For all these reasons it is vitally important for applicants to develop strong and mutually supportive relationships with the financial institutions which will be their partners in carrying out the IDA project. Thus, every application submitted pursuant to this Announcement must include a copy(ies) of the agreement(s) entered into by the applicant with one or more insured Financial Institutions, in collaboration with which Reserve Funds and Individual Development Accounts will be established and maintained. (For applicant entities which are eligible Credit Unions or CDFI's, see Note at end of this Section, below.)

To be considered for funding, each Application submitted by other than an eligible Credit Union or Community Development Financial Institution must include a copy of an Agreement or Agreements with one or more partnering insured Financial Institutions which for the proposed project include(s) the provisions set out in Part III Element II(c), which state(s) that the accounting procedures to be followed in account management will conform to Guidelines (CFR Part 74) established by the Secretary.

(Note: Such regulations may be found as Attachment “L” to this Announcement.), and under which the partnering insured Financial Institution agrees to provide project data and reports as requested by the applicant. In the case of IDA's established as Trusts under Section G. Paragraph (4), above, the partnering financial institution must be a Qualified Financial Institution as defined in Part I Section F.(13). In the case of IDA's established as Custodial Accounts, the partnering financial institution must be insured and must meet the requirements of Section G. Paragraph (5), above, to the satisfaction of the Secretary. (For applications submitted by eligible Credit Unions or Community Development Financial Institutions (CDFI's) see Note below.)

The Agreement may also include other services to be provided by the partnering Financial Institution that could strengthen the program, such as Financial Education Seminars, favorable pricing or matching contributions provided by the Financial Institution, and assistance in recruitment of Project Participants. Strong and complete Agreements with financial institutions will be recognized in the application review process under Sub-Element II(c) of the application Evaluation Criteria under Part III, below.

Note: In the case of applications submitted by eligible Credit Unions or Community Development Financial Institutions, where the Reserve Fund and IDA accounts are to be held by the applicant Institution itself, the applicant must submit, in lieu of a Financial Institution Agreement, a Statement of Policy, approved by its Board of Directors and attested to by its Chairperson and Chief Financial Officer, which meets the requirements set forth in this section (L.) and in Part III Sub-Element II(c). This Statement of Policy will be considered in the application review process under Sub-Element II(c). Where such applicants are proposing the establishment of Reserve Fund(s) or IDA's in other partnering Financial Institutions, they must submit as part of their applications copies of Agreements with such Partnering Financial Institution(s) in accordance with this section.

M. Evaluation

To fulfill the legislative requirement for evaluation of the Assets for Independence Demonstration Program, the Secretary has contracted with Abt Associates, Inc., in Cambridge, Massachusetts, to carry out the required evaluation. OCS and ACF's Office of Planning, Research and Evaluation (OPRE) have worked together with the contractor in the development of an evaluation design whose implementation got underway in the Spring of 2001.

Section 414 of the AFI Act stipulates that in evaluating any demonstration project under the AFI Act, the research organization (Abt Associates) shall, before, during and after the project, obtain such quantitative data as are necessary to evaluate the program thoroughly. To this end OCS and its technical assistance contractor, PeopleWorks, Inc., have worked with the ACF Office of Planning, Research and Evaluation (OPRE) and the research organization to develop a reporting format for AFIA grantees, and hope to make available to all grantees an Asset Development Information System to facilitate the maintenance, collection, verification and reporting of the data. In addition, Section 414 directs that the research organization shall develop a qualitative assessment, derived from sources such as in-depth interviews, of how asset accumulation affects individuals and families.

Grantees in the Assets for Independence Demonstration Program are required to cooperate with the OCS contractor's nationwide evaluation of IDA projects. As one aspect of this cooperation, grantees are required by Section 407 (b) (1) and (3) the AFI Act to spend not less than two percent (but no more than fifteen percent) of the Federal grant monies to provide the research organization evaluating the demonstration project under section 414 with such information with respect to the demonstration project as may be required for the evaluation. They are also strongly urged to use a data collection/tracking and reporting software approved by OCS (i.e., either the “MIS IDA” system, developed by the Center for Social Development at Washington University in St. Louis or a comparable, compatible system such as the Asset Development Information System being considered by OCS. It should be noted that the MIS IDA system does not calculate interest payments to IDA accounts as required by the AFI Act. Nor does it provide for collection of much of the project information that the AFI Act requires both for grantee reports and the program evaluation. However, PeopleWorks, Inc. has worked with SPSS, Inc. to develop two interim software packages which are now available, one a “bridge to MIS IDA” package and the other an “Interest Rate Calculator,” to deal with these problems on a temporary basis. (See Part III, Element IV, proposal review criteria for applicant's plan for data collection, reporting and evaluation-related activity.)

N. Support for Noncustodial Parents

The Office of Community Services and the Office of Child Support Enforcement (OCSE) both in the Administration for Children and Families, signed a Memorandum of Understanding (MOU) to foster and enhance partnerships between OCS grantees and local Child Support Enforcement (CSE) agencies. (See Attachment M for the list of CSE State Offices that can identify local CSE agencies) In the words of the MOU:

The purpose of these partnerships will be to develop and implement innovative strategies in States and local communities to increase the capability of low-income parents and families to fulfill their parental responsibilities. Too many low-income parents are without jobs or resources needed to support their children. A particular focus of these partnerships will be to assist low-income, noncustodial parents of children receiving Temporary Assistance for Needy Families to achieve a degree of self-sufficiency that will enable them to provide support that will free their families of the need for such assistance.

Accordingly, a rating factor and a review criterion have been included in this Program Announcement which will award two points to applicants who have entered into partnership agreements with their local CSE agency to provide for referrals to their project in accordance with provisions of the OCS-OCSE MOU. (See Part III, Evaluation Criteria 7.)

Part III. The Project Description, Program Proposal Elements and Review Criteria

A. Purpose

The project description provides the major means by which an application is evaluated and ranked to compete with other applications for available assistance. The project description should be concise and complete and should address the activity for which Federal funds are being requested. Supporting documents should be included where they can present information clearly and succinctly. Applicants are encouraged to provide information on their organizational structure, staff, related experience, and other information considered to be relevant. Awarding offices use this and other information to determine whether the applicant has the capability and resources necessary to carry out the proposed project. It is important, therefore, that this information be included in the application. However, in the narrative the applicant must distinguish between resources directly related to the proposed project from those that will not be used in support of the specific project for which funds are requested.

B. Project Summary/Abstract

Provide a summary of the project description (a page or less) with reference to the funding request.

C. Objectives and Need for Assistance

Clearly identify the physical, economic, social, financial, instructional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

D. Results or Benefits Expected

Identify the results and benefits to be derived. For example, describe the population to be recruited to the IDA program, how many accounts are projected to be opened, what qualified expenses are expected to be achieved, and how they will assist participants to move towards self-sufficiency.

E. Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of accounts opened. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

F. Organization Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission. The non-profit agency can accomplish this by providing a copy of the applicant's listing in the Internal Revenue Service's (IRS) most recent list of tax-exempt organizations described in Section 501(c)(3) of the IRS code, or, by providing a copy of the currently valid IRS tax exemption certificate, or, by providing a copy of the articles of incorporation bearing the seal of the State in which the corporation or association is domiciled.

G. Budget and Budget Justification

Provide a line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how categorical costs are derived. Discuss the necessity, reasonableness, and allocability of the proposed costs.

The following guidelines are for preparing the budget and budget justification. Both Federal and non-Federal resources shall be detailed and justified in the budget and narrative justification. For purposes of preparing the budget and budget justification, “Federal resources” refers only to the ACF grant for which you are applying. Non-Federal resources are all other Federal and non-Federal resources. It is suggested that budget amounts and computations be presented in a columnar format: first column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those which belong under other categories such as equipment, supplies, construction, etc. Third-party evaluation contracts (if applicable) and contracts with secondary recipient organizations, including delegate agencies and specific project(s) or businesses to be financed by the applicant, should be included under this category.

Justification: All procurement transactions shall be conducted in a manner to provide, to the maximum extent practical, open and free competition. Recipients and subrecipients, other than States that are required to use Part 92 procedures, must justify any anticipated procurement action that is expected to be awarded without competition and exceed the simplified acquisition threshold fixed at 41 USC 403(11) (currently set at $100,000.) Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

H. Non-Federal Resources

Amounts of non-Federal resources that will be used to support the project as identified in Block 15 of the SF-424. The firm commitment of these resources must be documented and submitted with the application in order to be given credit in the review process. A detailed budget must be prepared for each funding source.

I. Evaluation Criteria

Proposal Elements and Review Criteria for Applications

Each application which passes the Initial OCS Screening, as described in Part IV, Section D, below, will be assessed and scored by three independent reviewers. Each reviewer will give a numerical score for each application reviewed. These numerical scores will be supported by explanatory statements on a formal rating form describing major strengths and weaknesses under each applicable criterion published in the Announcement. Scoring will be based on a total of 100 points, and for each application will be the average of the scores of the three reviewers.

The competitive review of Assets for Independence Demonstration Program proposals will be based on the degree to which applicants:

(1) Incorporate each of the Program Elements and Sub-Elements below into their proposal narratives, so as to describe convincingly a project that will develop new asset accumulation opportunities for lower-income working families, through creation of IDA accounts and the provision of matching contributions, economic literacy training, and other supportive services, that can lead to a transition from dependency to economic self-sufficiency through the accumulation of assets and the pursuit of activities requiring one or more qualified expenses;

(2) Adhere to the requirements in Part II, above, and include the required program activities and agreements set forth in that Part; and,

(3) Commit to cooperation with the nationwide evaluation of the demonstration projects, and provide for the collection and validation of relevant data to support the national evaluation, being carried out by the Abt Associates under contract with ACF, of the project design, implementation, and outcomes of this Demonstration Program.

In order to simplify the application preparation and review process, OCS seeks to keep grant proposals cogent and brief. Where applications have project narratives (excluding Project Summaries, Tables of Contents, Budget Justifications and Appendices) of more than 30 letter-sized pages of 12 c.p.i. type or equivalent on a single side only the first 30 pages will be reviewed for funding.

Applicants should prepare and assemble their project description using the following outline of required project elements. They should, furthermore, build their project concept, plans, and application description upon the guidelines set forth for each of the project elements.

OCS seeks to learn from the application why the project is important or necessary, what activities will be carried out, and why and how the project as proposed is expected to lead to significant permanent and measurable results in individual and family economic self-sufficiency through economic literacy and accumulation of assets. Applicants are urged to design and present their project in a way that makes clear the cause-effect relationship between what the project plans to do and the results it expects to achieve. The application should begin with a brief summary, as described in Part VI Section A, below (which will not be counted as part of the 30-page project narrative).

Project descriptions are evaluated on the basis of substance, not length. All pages should be numbered and a table of contents should be included for easy reference. For each of the Project Elements or Sub-Elements below there is at the end of the discussion a suggested number of pages to be devoted to the particular element or sub-element. These are suggestions only; but the applicant must remember that the overall Project Narrative must not be longer than 30 pages.

Evaluation Criteria 1: Organizational Profiles

Element I. Organizational Experience and Administrative Capability; Ability To Assist Participants (0 to 20 Points)

Criterion: The capability and relevant experience of the applicant, its staff, and its partners and collaborators in developing and operating programs which deal with poverty problems similar to those to be addressed by the proposed project. Applicants should include their experience and capability in providing supportive services to TANF recipients and other low income individuals and working families seeking to achieve economic stability and self-sufficiency; and in recruiting, educating, and assisting project participants to increase their economic independence and general well-being through economic literacy education and the accumulation of assets.

Experience: In this section, applications should briefly cite a few specific, concrete examples of successful programs and activities, with accomplishments, with which applicant has been involved which have contributed to its experience and capability to carry out the proposed project. This should include:

• Experience in working with the target or similar populations;

• Collaborative programming and operations which involve financial institutions; and

• Financial planning, budget counseling, educational guidance, preparation for home ownership, and/or self-employment training.

Agency Management Commitment

• Identify applicant agency executive leadership and briefly describe their involvement in the proposed project;

• Provide assurance of their commitment to its successful implementation. (This can be achieved by a statement or letter from agency executive leadership which may be included in the Appendix, and which should note and justify the priority that this project will have within the agency including the facilities and resources that it has available to carry it out.)

Qualifications, experience, capacity and commitment of the key staff person(s) who will administer and implement the project:

• Identify the individual staff person(s) who will have the most responsibility for managing the project, coordinating services and activities for participants and partners, and for achieving performance targets.

• Indicate the amount of time (in FTE) each will be expected to devote to the project and briefly describe their roles and responsibilities;

• Include resume or resumes of key project personnel in the Appendix.

(The person identified as Project Director should have supervisory experience, experience in working with financial institutions and budget related problems of the poor, and experience with the target population);

• Include in the Appendix the Position Description(s) for key project staff who have not yet been identified.

Roles, responsibilities, and experience of any other organizations that will be collaborating with the Applicant to assist and support Project Participants in the pursuit of their goals under the project. Supporting documentation concerning these partnering agencies and their written commitment to participation in the project should be included in the Appendix to the proposal.

Where the Applicant is applying as the lead agency for a consortium of partnering organizations, each of these organizations should be briefly described in this section of the Project Narrative; and background materials citing their relevant experience and staff capabilities should be included in the Appendix. In such cases the Applicant should document its capability and experience in managing such consortia, and the roles and responsibilities of all participating agencies should be clearly set forth in Partnering Agreements between the Applicant and each of the member organizations. Copies of the Agreements should be included in the Appendix, and the roles and responsibilities clearly explained in Element II(b), Project Design, and reflected in the Work Plan under Element II(d).

It is suggested that applicants use no more than 5 pages for this sub-Element, not counting actual resumes or position descriptions, which should be included in an Appendix to the proposal, or background materials on consortium members (if any) and other collaborating agencies, supportive materials, and, where applicable, Partnering Agreements with members, which should also be included in the Appendix.

Evaluation Criteria 2: Approach I

Element II. Sufficiency of the Project Theory, Design, and Plan (0-45 Points)

Criterion: The degree to which the project described in the application appears likely to result in the establishment of a workable, fiscally sound project that will provide a structure of incentives and supports for TANF eligible households and other working families of limited means that will enable them to increase their economic self sufficiency through economic literacy training and asset accumulation for one or more “qualified expenses”.

OCS seeks to learn from the application why and how the project as proposed is expected to establish the creation of new opportunities for asset accumulation by eligible individuals and families that can lead to significant improvements in individual and family self-sufficiency through activities requiring one or more qualified expenses: for post-secondary education, home ownership, and/or qualified business capitalization.

Applicants are urged to design and present their project, pursuant to the following sub-elements, in terms of a conceptual cause-effect framework that makes clear the relationship between what the project plans to do and the results it expects to achieve.

Sub-Element II(a)(1). Description of Target Population, Analysis of Need, and Project Assumptions (0-6 Points)

Target population and area:

• Precisely identify the target population(s) to be served.

• Identify and briefly describe the geographic area to be impacted.

• Cite (with source of data) the percentage of residents of that target area who are low-income individuals, who are TANF recipients, as well as the unemployment rate, and other data that are relevant to the project design. Note: Both the poverty rate and unemployment rate of the target community(s) are needed to be set forth in the Application so that its eligibility for the legislative preference under Sub-Element II(a)(2) may be determined (see below).

The project design or plan should begin with identifying the underlying assumptions about the program. These are the beliefs on which the proposed program is built. They should begin with assumptions about the strengths and needs of the population(s) to be served; about how the accumulation of assets will enable project participants to build on those strengths in their quest to achieve self-sufficiency; and about what anticipated needs of the participants could be barriers to that achievement.

In other words, the underlying assumptions of the program are the applicant's analysis of the participant strengths and potential to be supported and their needs and problems to be addressed by the project, and the applicant's theory of how its proposed interventions will address those strengths and needs to achieve the desired result. A strong application is based upon a clear description of the strengths, opportunities, needs and problems to be supported and addressed, and a persuasive understanding of the nature of the opportunities and causes of the problems.

Thus the application should include a brief discussion of the following:

• The identified strengths and needs of the population(s) to be served;

• How the accumulation of assets will enable project participants to build on those strengths in their quest to achieve self-sufficiency;

• What anticipated needs of the participants could be barriers to that achievement.

• Any identified personal barriers to employment, job retention and greater self-sufficiency faced by the population to be targeted by the project (for example, illiteracy, substance abuse, family violence, lack of skills training, health or medical problems, need for childcare, lack of suitable clothing or equipment, or poor self-image);

• Any identified community systemic barriers which the applicant will seek to overcome (for example, lack of public transportation; lack of markets; unavailability of financing, insurance or bonding; inadequate social services for employment service, child care, job training; high incidence of crime; lack of housing; inadequate health care; or environmental hazards).

• The personal and family services and support needed by project participants which will enhance job retention and advancement, so as to assure continued ability to save from earned income, and which will also help to assure that benefits attainable through asset accumulation are not diverted by crises beyond the participants' control which would lead to emergency withdrawals.

The applicant should thus be prepared to demonstrate that the proposed project activities will provide participants with realistic prospects for making the investments needed to acquire the assets which are the goal of the IDA.

Where applicant is the lead agency for a group or consortium of organizations, this narrative should very briefly summarize the location, character, and unemployment and poverty status of the different target populations. More detailed information for each of the participating organizations should be included in the Appendix to the Application.

Sub-Element II(a)(2). Description of Target Population, Analysis of Need, and Project Assumptions—Legislatively Mandated Preferences (Weight of 0-4 Points in Proposal Review)

Note: See the legislative preferences set forth in Part II Section I (Preferences), above.

1. Applicant demonstrates the willingness and ability to select individuals for participation in the project who are predominantly from households in which a child (or children) is living with the child's biological or adoptive mother or father, or with the child's legal guardians. Applications which include a targeting of TANF eligible households will be deemed to have met this preference, described in Part II, I.(1.) (Weight of 0-2 points in proposal review)

2. Applicant targets individuals residing within one or more relatively well-defined neighborhoods or communities (including rural communities, public housing developments, Empowerment Zones and Enterprise Communities) that experience high rates of poverty or unemployment. Applicant must cite data and source of data to demonstrate eligibility for this preference. (Applications which target residents of Empowerment Zones, Enterprise Communities, Public Housing, or CDFI Fund-designated Distressed Communities will be deemed to have met this preference, described in Part II, I.(3.) (Weight of 0-2 points in proposal review)

In the case of a consortium of organizations operating programs funded through a lead agency, if a majority of the participating organizations meet these legislative preferences, the Application as a whole will be awarded these points.

It is suggested that applicants use no more than 5 pages for this Sub-Element, not including any more detailed information about target populations or communities, which should be included in the Appendix.

Sub-Element II(b). Project Approach and Design: Interventions, Outcomes, and Goals (0-15 Points)

The Application should outline a plan of action which describes the scope and detail of the proposed project activities which will be undertaken, and explains how they will contribute to the achievement of project goals. This sub-element should begin with a concise statement of project goals, which should include:

• The number of IDAs that are proposed to be established for each of the “Qualified Expenses” under the AFI Act (first home, post secondary education, business capitalization);

• The projected monthly savings by AFI-eligible IDA holders and the planned rate of matching contributions; (Projected savings may vary depending on participant ability to pay.)

• The projected savings and asset goals of the AFI-eligible participants. (It is recognized that these projections may be revised during the course of the project, based on actual experience of the participants.); and

• Demonstration that projected savings goals have a true relation to the ability of the Participant to save and to the value or cost of the “Qualified Expense” for which the IDA is to be used, be it housing, post secondary education, or business capitalization.

Next, the Applicant should present a clear and straightforward description, from the point of view of the Project Participant, of just how the proposed IDA Project will operate. This description should take an eligible member of the target population through project activities from recruitment through the payment for the “Qualified Expense” (and beyond, if appropriate). It is suggested that the description generally follow the outline below, plus any additional activities that the Applicant proposes to undertake as part of its project:

(1) How/where does the potential participant learn information about the Project that will excite his/her interest? (Recruitment)

(2) Once interested, how, when, by whom, and on what basis is the recruit selected to participate in the project? (Selection)

(3) How and when and with what assistance (Case Management? Family Development?) does the new participant make decisions concerning the amount of weekly or monthly savings and the selection of “Qualified Expense”? Or is this part of the Selection Process? (Consultation)

(4) When and where and with whom does the Participant reach agreement on and sign a “Savings Plan Agreement”? (Include here a brief discussion of the provisions of the Agreement, or refer to a sample provided in the Appendix.) (Savings Plan Agreement)

(5) Where, when and how does the Participant actually open his/her IDA account with the Insured Financial Institution? Where is the Institution in relation to the Participant's home/place of work? How does the Participant get to the Institution? (Include here a brief discussion of the role of the Financial Institution in account management, data collection and reporting, and any other services it will provide, referring to copies of the agreement(s) with the Financial Institution(s) in the Appendix.) (Opening of the IDA/Role of the Financial Institution)

(6a) How and where will participant make savings deposits? In person? By mail? Through payroll deduction? (Savings Deposits)

(6b) What happens if a scheduled deposit is missed? Will the participant be sent a post card? Receive a supportive phone call? (Delinquency)

(7a) Where and when and from whom does the participant receive “Economic Literacy” or “Budgeting” training, and do childcare and transportation need to be provided? (Training and Support)

(7b) Where and when and from whom does participant receive Credit Repair Services if they are needed; and are there ways to escape from, or avoid Predatory Lenders? (Credit Repair)

(8a) Where and when and from whom does the participant receive needed support to remain on the job with opportunity for advancement (So as to assure continued savings from earned income)? (Post Employment Support Services)

(8b) Where and when and from whom does the participant receive emergency services so as to avoid having to make Emergency Withdrawals? (Crisis Intervention)

(9) Where and when and from whom does the participant receive “Qualified Expenditure” training related to home ownership, pursuit of educational goals, or business plan development and business management? (Qualified Expenditure Support)

(10) When the IDA savings/match goals have been achieved, where, when and how does the participant make or arrange withdrawals to support the “Qualified Expenses”? (Withdrawals)

Finally, and following the above description, the Applicant should explain how the proposed project activities will result in outcomes which will build on the strengths of the Program Participants and assist them to overcome the identified personal and systemic barriers to achieving self-sufficiency:

What will the project staff do with the resources available to the project;

How will what they do (interventions) assist project participants to accumulate assets in Individual Development Accounts and use those assets for “Qualified Expenses” in a manner that will help lead them to self-sufficiency; and

What personal and family service and support will be provided to project participants that will enhance job retention and advancement, so as to assure continued ability to save from earned income, and which will also help to assure that benefits attainable through asset accumulation are not diverted by crises beyond the participants' control which would lead to emergency withdrawals.

In this description the applicant should discuss all of the planned activities and interventions, including those supported by other available resources or partnering organizations, and should explain the reasons for taking the approaches proposed. The description should give a clear picture of how the project as a whole will operate from day to day, including the recruiting, financial, program support, and data collection responsibilities of the applicant and any partners in the project, and just how they will interact with the financial institutions and other participating agencies.

Where the Applicant is a lead agency for a group or consortium of organizations, the role of each must be clearly defined in this section of the application. In such cases Applicants should attach copies of signed Partnering Agreements with each of the member organizations setting forth the roles and responsibilities of each. (See Element I and Part II Section B.(3) above.)

It is suggested that applicants use no more than 9 pages for this Sub-Element, not including copies of agreements with financial institutions, partnering agencies or organizations, or sample “Savings Plan Agreement”, which should be in an Appendix.

Sub-Element II(c). Financial Institution Agreement/Statement of Policy (0-10 Points)

Note: In the case of applications submitted by eligible Credit Unions or Community Development Financial Institutions, where the Reserve Fund and IDA accounts are to be held by the applicant Institution itself, the applicant must submit, in lieu of a Financial Institution Agreement, a Statement of Policy, approved by its Board of Directors and attested to by its Chairperson and Chief Financial Officer, which sets forth the provisions listed under this Sub-Element, and which will be considered in like manner in the competitive review process. Where such applicants are proposing the establishment of Reserve Fund(s) or IDA's in other partnering Financial Institutions, they should submit as part of their applications copies of Agreements with such Partnering Financial Institution(s) in accordance with this Sub-Element. It is suggested that applicants need not include discussion of these Agreements/Statements of Policy in their Proposal Narrative, but should only identify the Financial Institution(s) and reference the Agreement/Statement of Policy as included in an Appendix to the Application.

Applicants other than eligible Credit Unions or CDFI's must identify the Qualified Financial Institution(s) with which they are partnering in the development and implementation of its IDA Project, and all applicants must include in an Appendix a copy of a signed Agreement between the Applicant and the Financial Institution(s), or, in the case of eligible Credit Unions or CDFI's, a Statement of Policy, which sets forth:

(1) That the project's Reserve Fund will be established in the Financial Institution;

(2) That its management will conform to the requirements of the AFI Act (see PART II Section G.(1) above);

(3) The rate of interest to be paid on amounts in the Reserve Fund;

(4) That IDA accounts will be established in the Financial Institution through written governing instruments in accordance with the requirements of Part II, Section G. Paragraph (4), sub-paragraphs (a) through (g), and Paragraph (5), above, including the requirements for deposits (by cash, check, money order or electronic transfer) and withdrawals (signature of the account holder and of a responsible official of the project grantee required);

(5) How, when, and where participant deposits will be made;

(6) How and when matching contributions will be made (e.g. in a parallel account);

(7) The rate and frequency of interest payments on accounts, including matching contributions;

(8) That the accounting procedures to be followed in account management will conform to the Guidelines established by the Secretary as set forth in Attachment “L” to this Announcement;

(9) The data and reports that will be furnished to the grantee concerning the Reserve Fund and IDA accounts;

(10) The Non-Federal Share contribution, if any, being made by the Financial Institution for deposit in the Reserve Fund, and the schedule of deposits of such contribution; and

(11) Other services to be provided by the Financial Institution(s) that could strengthen the project, such as Financial Education Seminars, favorable pricing on fees, out-stationing of services in community facilities, or assistance in recruitment of Project Participants.

Agreements/policies which meet the basic requirements of paragraphs (1) through (9), above will be awarded up to eight (8) points in the competitive review process. To be awarded a higher score Agreements/Statements of Policy must include some provisions from those included in paragraphs (10) and (11).

As noted above, the applicant need only identify the partnering Financial Institution(s) under this Sub-Element, and reference the Agreement(s) or Statement of Policy in the Appendix to the Application.

Sub-Element II(d). Work Plan, Time Lines, Projections, Management Plan (0-10 Points)

For this Sub-element, applicants should provide the information described below in items A and B of this Sub-element.

A. Quantitative Quarterly Projections of the Following Information (Which May Be Presented in the Form of a Gant Chart or Table)

• The projected number of participants to be enrolled in each quarter;

• The number of Individual Development Accounts projected to be opened in each quarter for each of the “Qualified Expenses”, with an estimate of expected attrition among participants;

• The number and amount of projected deposits in each quarter;

• A projected schedule of IDA completions and qualified expense payments, which should reflect the expected attrition noted above;

• A projected schedule of financial literacy training classes to be presented;

• The number and types of other support services to be provided to participants;

• A projected schedule of “asset-related training” to be provided participants; and

• Key project tasks, with the timelines and major milestones for their implementation.

Where the Applicant is a lead agency for a group or consortium of organizations, this information should be broken out for each of the member organizations. Applicant may be able to use a time line chart to convey this aspect of the work plan in minimal space.

Note: Applicants should make sure that these projections relate accurately to the amount of grant funds requested and rates of matching contributions that are planned for IDA's. In other words, applicants should project the number of IDA accounts that will be matched by the grant funds that will be available to the project, given the proposed maximum matching contribution (which cannot be more than $2000 in Federal grant funds). Thus:

• Applicants should not project a greater number of IDA accounts than that number that can be matched by the grant funds that will be available to the project.

• Applicants should also be aware that OCS funds awarded pursuant to this Announcement will be from FY 2002 funds and may not be expended after the end of the five-year Project/Budget Period to support administration of the project or matching contributions to Individual Development Accounts which may be open at that time.

• Consequently, Applicants should consider carefully the length of time participants will need to achieve their savings goals and at what point in the project they should discontinue the opening of new accounts.

• Applicants must include a statement of assurance that in every case an IDA account will only be opened for a participant when there are in the project's Reserve Fund sufficient funds for payment of all promised matching contributions to that account during its lifetime until its maturity in the course of the demonstration project.

B. Management Plan or Chart Showing the Following Information

• The responsibilities of the applicant agency, key personnel, and all partnering agencies and consortium members (where applicable), with

• An indication of who will be performing various tasks such as recruiting, training, economic literacy training, and support activities.

(This management plan or chart should be included in the Appendix to the Application.)

It is suggested that applicants use no more than 3 pages for this Sub-Element, not counting the management plan/chart, which should be included in the Appendix.

Evaluation Criteria 3: Budget and Budget Justification

Element III. Appropriateness of Budget and Proposed Use of Cash and In-Kind Resources (0-5 Points)

Criteria: Completeness of the Budget Justification, and the degree to which a description of the allocation of both cash and in-kind resources available to the project (including any income generated for the project by the Reserve Fund) demonstrates a thoughtful plan that reflects the needs of Project Participants and the responsive activities and interventions to be undertaken by the Applicant and its partners.

Every application must include a Budget Justification, placed after the Budget Forms SF 424 and 424A, explaining the sources and uses of project funds, and completed in accordance with instructions found in Section G of this Part, above. The Budget Justification will not be counted as part of the Project Description subject to the 30-page limitation. The Budget Justification should include the following:

• Brief but thorough description of how all of the resources available to the Project will be employed to carry out the Work Plan described in Element II, including those training elements and support services designed to help assure participant success in meeting their savings commitments and their chosen “qualified expense” use of their Individual Development Account assets.

• In the budget forms and supporting Budget Justification, Applicants must clearly distinguish between AFI Act/OCS grant funds and other funds, and between cash and in-kind resources described. (See detailed instructions in Part V (B), below.)

• Applicant should provide sufficient detail for all costs, showing how amounts were computed, to substantiate the need, cost, and use of proposed expenditures.

• The budget must clearly reflect that the grantee will use at least 2% (but not more than 15%) of grant funds, to provide the research organization (Abt Associates) with which ACF has contracted to evaluate the Assets For Independence Demonstration Program with such information as may be required for the evaluation.

• The budget must clearly reflect that at least 85% of the Federal grant funds, and an equal amount of the required cash non-Federal share funds, shall be used as matching contributions to participants' AFI-eligible IDA accounts.

As noted above, the Budget Justification will not be counted as part of the Project Description subject to the 30-page limitation.

Evaluation Criteria 4: Approach II

Element IV. Project Data: Adequacy of Plan for Collecting, Validating and Providing Project-Related Data for Management Information, Reporting, and Evaluation Purposes (0-5 Points)

Criteria: Adequacy of the plan for collecting, validating and providing relevant, accurate and complete data for internal management information, statutory reporting and project evaluation purposes; and clear expression of a commitment to cooperate with the statutorily mandated evaluation of the national Assets for Independence Demonstration Program.

Note: Under the AFI Act project grantees are required to use at least 2%—but not more than 15%—of grant funds to provide the research organization (Abt Associates) evaluating the demonstration project with such information with respect to the demonstration project as may be required for the evaluation.

Although grantees of the Assets for Independence Demonstration Program are not required to have their own project evaluation, they are required to cooperate with, and furnish project data to the statutorily mandated evaluation of the national Assets for Independence Demonstration Program carried out by the independent research organization under contract to ACF (Abt Associates). Proposal review will include consideration of the adequacy of the applicant's plan for collecting, validating and providing relevant, accurate and complete data, and the applicant's plan for internal management information, statutory reporting and OCS national IDA program evaluation purposes.

This Element requires the Applicant to provide the following:

• An explicit statement of applicant's agreement to cooperate with the evaluation of the national program being carried out by Abt Associates;

• A brief explanation of applicant's perception of what that cooperation would entail;

• A well-thought-out plan for collecting, validating and reporting or providing the necessary data in a timely fashion (The Applicant is also encouraged to identify the kinds of data it believes would facilitate the evaluation, reporting, purposes); and

• An explicit statement that the applicant agrees to use the “MIS IDA” information system software developed by the Center for Social Development, or a comparable and compatible Asset Development Information System, now in development, which OCS hopes to provide to grantees for the maintenance, collection, and transmission of data from the proposed project.

Note: To attain a maximum score for this Element, the Applicant must state its agreement to use the “MIS IDA” or comparable/compatible information system approved by OCS.

Applicants are urged to carry out an ongoing assessment of the data and information collected as an effective “process” management/feedback tool in implementing their project. If the Applicant anticipates such an undertaking, the plans should be briefly outlined here.

It is suggested that applicants use no more than 2 pages for this Element.

Evaluation Criteria 5: Non-Federal Resources

Element V. Commitment of Resources (Total of 0-15 Points)

Sub-Element V(a). Proportion of Public/Private Required Non-Federal Matching Contributions (0-2 Points)

Criterion: Whether a proportionately greater amount of the committed required cash non-Federal share funds are from the private sector as opposed to public (government) sources.

In accordance with the legislative preference set forth in Part II Section I(2) (Preferences), above, applications which provide a commitment of required cash non-Federal funds with a proportionately greater amount of such funds committed from private sector as opposed to public sources will receive 2 points under this Element.

Applicants are reminded that as noted in Part II Section H. (Cash Non-Federal Share Requirements), where the Applicant is itself providing any of the required cash non-Federal share, it must include in the Appendix a statement of commitment, on applicant letterhead, signed by the official signing the SF 424 and countersigned by the Applicant's Board Chairperson or Treasurer, that:

• The non-Federal matching funds will be provided, contingent only on the OCS grant award, and

• Non-Federal share deposits and the opening of Individual Development Accounts will be coordinated so that new accounts will only be opened when there are sufficient funds in the Reserve Fund to cover the total matching requirements of the Savings Plan Agreements for those accounts during their lifetime until they reach maturity.

Sub-Element V(b). Availability of Additional Resources (0-13 Points)

Criterion: The extent to which additional resources (beyond the required amount of direct funds from non-federal public sector or private sources that are formally committed to the project as non-Federal Share) will be available to support those activities and interventions identified in Project Approach and Design [sub-Element II(b)], such as economic literacy classes, “qualified expense” asset-related training, counseling, case management, post-employment support services, and crisis intervention.

As noted below in Part IV, Paragraph D Initial OCS Screening, the only applications which will be considered for competitive review are those which include written documentation of a commitment, contingent only on award of the OCS grant, from the provider(s) of non-Federal share, in cash as distinguished from in-kind, of at least the amount of the total Federal grant requested.

OCS has determined that in light of the strict legislative limitations on the use of Federal grant funds and of the minimum required non-Federal share (at least 85% of each must go toward matching deposits in Individual Development Accounts), important training, counseling and support activities, critical to the success of a project, can best be supported by additional resources, both of the applicant itself and partners, and from the community at large.

Additional resources may be existing programs of the applicant or a project partner, such as Family Development, Economic Literacy classes, or Small Business Training, in which Project Participants are enrolled as part of their efforts to achieve self-sufficiency.

In order to receive points in the review process under this sub-Element, the applicant must:

• Identify those additional resources, cash and in-kind, which will be dedicated to support of those activities and interventions identified as part of the Project Approach and Design in sub-Element II(b) (including economic literacy classes, training, counseling, case management, post-employment support services, and crisis intervention; and any staff data collection and verification activities described in the budget (Element III); and

• Document the commitment of such resources to the project in writing and submit as an Appendix to the Application.

Note: Because such additional resources are not part of the legislatively mandated cash non-Federal share requirement, these additional resources may be of Federal or non-Federal origin, public or private, in cash or in-kind. Applicants are reminded that they will be held accountable for commitments of such additional resources even if over the amount of the required non-Federal share.

It is suggested that no more than 3 pages be used for this Element, not including non-Federal Share Agreements, assurances, documents of commitment, partnership agreements, or Memoranda of Understanding, which should be put in an Appendix to the proposal.

Evaluation Criteria 6: Results or Benefits Expected

Element VI. Significant and Beneficial Impacts/Critical Issues or Potential Problems (0-8 Points)

Criteria: The extent to which proposed project is expected to produce permanent and measurable results that will reduce the incidence of poverty in the community and lead TANF eligible households and other eligible individuals and working families toward economic self-sufficiency through economic literacy education and accumulation of assets; and the extent to which applicant convincingly explains how the project will meet any critical issues or potential problems in achieving these results.

For this element, Applicants should:

• Set forth their realistic goals and projections for attainment of these and other beneficial impacts of the proposed project;

• Demonstrate that projected savings goals have a true relationship to the ability of the participant to save the projected amounts and to the value or cost of the “Qualified Expense” for which the IDA is to be used;

• Quantify anticipated results in terms of

• The number of AFI-eligible Individual Development Accounts opened,

• The rate of growth of individual savings among participants,

• The number and size of withdrawals for each of the three “Qualified Expenses”, and

• The impact of the acquisition of these assets on the participants' movement toward self-sufficiency, and explicitly address:

• Critical issues or potential problems that might affect the achievement of project objectives, and

• An explanation of how they would be overcome, and how the objectives will be achieved notwithstanding any such problems.

It is suggested that no more than 3 pages be used for this Element.

Evaluation Criteria 7: Support for Noncustodial Parents

Element VII. Agreements With Local Child Support Enforcement Agencies (0-2 Points)

As explained in Part II Section N, applicants who have entered into partnership agreements with local Child Support Enforcement (CSE) Agencies to develop and implement innovative strategies to increase the capability of low-income parents and families to fulfill their parental responsibilities; and specifically, to this end, to provide for referrals to the funded projects of identified income eligible families and noncustodial parents economically unable to provide child support, will also receive special consideration.

To receive the full credit of two points, applicants should include as an appendix to the application, a signed letter of agreement with the local CSE Agency for referral of eligible noncustodial parents to the proposed project.

It is suggested that applicants need only refer to the relevant appendix for this Element.

Part IV. Application Procedures

A. Application Development/Availability of Forms

In order to be considered for a grant under this program announcement, an application must conform to the Program Requirements set out in Part II and be prepared in accordance with the guidelines set out in Part III, above, with a project narrative that is responsive to the Program Elements and Review Criteria there set out. It must be submitted on the forms supplied in the attachments to this Announcement and in the manner prescribed below. Attachments A through I contain all of the standard forms necessary for the application for awards under this OCS program. These attachments and Parts IV and V of this Announcement contain all the instructions required for submittal of applications.

Additional copies may be obtained by writing or telephoning the office listed under the section entitled FOR FURTHER INFORMATION CONTACT: at the beginning of this announcement. In addition, this Announcement is accessible on the Internet through the OCS website for reading or downloading at: http://www.acf.dhhs.gov/programs/ocs/—click on “Funding Opportunities”.

The applicant must be aware that in signing and submitting the application for this award, it is certifying that it will comply with the Federal requirements concerning the drug-free workplace, the Certification Regarding Environmental Tobacco Smoke, and debarment regulations set forth in Attachments G, H, and I.

Part III contains instructions for the substance and development of the project narrative. Part V contains instructions for completing application forms. Part VI, Section A describes the contents and format of the application as a whole.

B. Application Submission

(1) Number of Copies Required

One signed original application and two copies must be submitted at the time of initial submission. (OMB 0976-0139). Two additional optional copies would be much appreciated by OCS to facilitate the processing and third party review of applications.

(2) Deadline

Applications shall be considered as meeting the announced deadline of June 14, 2002 if they are received on or before the deadline date. Mail service in the Washington, DC area was disrupted a few months ago and for several weeks, all mail deliveries to the Administration for Children and Families stopped. Regular deliveries have resumed, but delays continue due to the irradiation process. It may be some time before the situation corrects itself. Consequently, it is strongly recommended that applicants avail themselves of overnight/express delivery such as Federal Express or United Parcel Service to submit their applications. Applications received after the due date will not be accepted for consideration in the first round of proposal reviews. If there is an insufficient number of acceptable applications in the first round of proposal reviews for OCS to fully expend available funds, a second round of applications will be accepted and reviewed, subject to the availability of funds, if received on or before August 5, 2002. Should this be the case, ACF will publish a timely notice to that effect in the Federal Register.

Applications submitted via overnight/express delivery services should be addressed to the Administration for Children and Families, Office of Administration, Office of Grants Management, Division of Discretionary Grants, “Attention IDA Program”, 901 D Street SW., Fourth Floor West, Washington, DC 20024.

Applications handcarried by applicants, applicant couriers, or by other representatives of the applicant shall be considered as meeting an announced deadline if they are received on or before the deadline date, between the hours of 8 a.m. and 4:30 p.m., EST, at the U.S. Department of Health and Human Services, Administration for Children and Families, Office of Administration, Office of Grants Management, Division of Discretionary Grants, Mailroom, 2nd Floor (near loading dock), Aerospace Center, 901 D Street, SW., Washington, D.C. 20024, between Monday and Friday (excluding Federal holidays). The address must appear on the envelope/package containing the application with the note “Attention: IDA Program”.

(As noted above, because of current delays in mail service, it is strongly recommended that applicants not use the U.S. Postal service for submission of applications. However, for any applicants that do so, mailed applications must be sent to: U.S. Department of Health and Human Services, Administration for Children and Families, Office of Administration, Office of Grants Management, Division of Discretionary Grants, “Attention: IDA Program”, 370 L'Enfant Promenade, SW., Washington, DC 20447.) ACF cannot accommodate transmission of applications by fax or through other electronic media. Therefore, applications transmitted to ACF electronically will not be accepted regardless of date or time of submission and time of receipt.

(3) Late Applications

Applications which do not meet the criteria above are considered late applications. ACF shall notify each late applicant that its application will not be considered in the current competition. As noted above, If there is an insufficient number of acceptable applications in the first round of proposal reviews for OCS to fully expend available funds, a second round of applications will be accepted and reviewed, subject to the availability of funds, if received on or before August 5, 2002. Should this be the case, ACF will publish a timely notice to that effect in the Federal Register.

(4) Extension of Deadlines

ACF may extend an application deadline for applicants affected by acts of God such as floods and hurricanes, or when there is widespread disruption of the mails. A determination to waive or extend deadline requirements rests with ACF's Chief Grants Management Officer.

C. Intergovernmental Review

This program is covered under Executive Order 12372, “Intergovernmental Review of Federal Programs,” and 45 CFR Part 100, “Intergovernmental Review of Department of Health and Human Services Program and Activities.” Under the Order, States may design their own processes for reviewing and commenting on proposed Federal assistance under covered programs.

All States and Territories except Alabama, Alaska, Arizona, Colorado, Connecticut, Hawaii, Idaho, Indiana, Kansas, Louisiana, Massachusetts, Minnesota, Montana, Nebraska, New Jersey, New York, Ohio, Oklahoma, Oregon, Pennsylvania, South Dakota, Tennessee, Vermont, Virginia, Washington, Wyoming, and Palau have elected to participate in the Executive Order process and have established Single Points of Contact (SPOCs). Applicants from these twenty-seven jurisdictions need take no action regarding E.O. 12372. Applicants for projects to be administered by Federally-recognized Indian Tribes are also exempt from the requirements of E.O. 12372. Otherwise, applicants should contact their SPOCs as soon as possible to alert them of the prospective applications and receive any necessary instructions. Applicants must submit any required material to the SPOCs as soon as possible so that the program office can obtain and review SPOC comments as part of the award process. It is imperative that the applicant submit all required materials, if any, to the SPOC and indicate the date of this submittal (or indicate “not applicable” if no submittal is required) on the Standard Form 424, item 16a.

Under 45 CFR 100.8(a)(2), a SPOC has 60 days from the application deadline to comment on proposed new or competing continuation awards.

SPOCs are encouraged to eliminate the submission of routine endorsements as official recommendations.

Additionally, SPOCs are requested to clearly differentiate between mere advisory comments and those official State process recommendations which may trigger the “accommodate or explain” rule.

When comments are submitted directly to ACF, they should be addressed to: Department of Health and Human Services, Administration for Children and Families, Office of Administration, Office of Grants Management, Division of Discretionary Grants 370 L'Enfant Promenade, SW., 4th floor West, Washington, DC 20447.

A list of the Single Points of Contact for each State and Territory is included as Attachment J to this Announcement.

D. Initial OCS Screening

Each application submitted under this program announcement will undergo a pre-review to determine that the application was received by the closing date and submitted in accordance with the instructions in this announcement.

All applications that meet the published deadline requirements as provided in this Program Announcement will be screened for completeness and conformity with the following requirements. Only complete applications that meet the requirements listed below will be reviewed and evaluated competitively. Other applications will be returned to the applicants with a notation that they were unacceptable and will not be reviewed.

Checklist

The following requirements must be met by all Applicants except as noted:

(1) The application must contain a signed Standard Form 424 “Application for Federal Assistance” (SF-424), a budget (SF-424A), and signed “Assurances” (SF 424B) completed according to instructions published in Part V and Attachments A, B, and C of this Program Announcement. The SF-424 and the SF-424B must be signed by an official of the organization applying for the grant who has authority to obligate the organization legally. Applicants must also be aware that the applicant's legal name as required on the SF-424 (Item 5) must match that listed as corresponding to the Employer Identification Number (Item 6).

(2) A project narrative must also accompany the standard forms. OCS requires that the narrative portion of the application be limited to 30 letter-size pages, numbered, and typewritten on one side of the paper only with one-inch margins and type face no smaller than 12 characters per inch (c.p.i.) or equivalent. Applications with project narratives (excluding Project Summaries and appendices) of more than 30 letter-sized pages of 12 c.p.i. type or equivalent on a single side will not be reviewed for funding. The Joint Applicant Agreement (where applicable), non-Federal share agreement, Budget Narrative, Charts, exhibits, resumes, position descriptions, letters of support or commitment, Agreements with Financial Institutions and other partnering organizations, and Business Plans (where required) are not counted against this page limit, and should be in the Appendix. It is strongly recommended that applicants follow the format and content for the narrative described in the program elements and review criteria set out in part iii section I.

(3) Application should contain documentation of the applicant's (or joint applicant's) tax exempt status as required under Part II, Section B. No grants will be awarded to applicants that have not submitted such documentation.

(4) Application must include a copy of a “Non-Federal Share Agreement” or Agreements in writing executed with the entity or entities providing the required non-Federal matching contributions, signed by a person authorized to make a commitment on behalf of the entity and signed for the Applicant by the person signing the SF424. Such Agreement(s) must include: (1) A commitment by the organization to provide the non-Federal funds contingent only on the grant award; and (2) an agreement as to the schedule of the opening of Individual Development Accounts by the Applicant, and the schedule of deposits by the organization to the project's Reserve Fund, such that the two schedules will together assure that there will be at all times in the Reserve Fund non-Federal matching contribution funds sufficient to meet the total pledges of matching contributions under the “Savings Plan Agreements” for all Individual Development Accounts then open and being maintained by the grantee, through their lifetime and until maturity, as part of the demonstration project.

Where Applicants (or Joint Applicants) themselves are providing non-Federal share funding, then with regard to those funds the application must include an assurance, written on the Applicant's letterhead, signed by the person signing the SF424, and countersigned by the board Chairperson or Treasurer, that the required non-Federal share funds will be provided and that deposits and the opening of Individual Development Accounts will be coordinated so that new accounts will only be opened when there are sufficient funds in the Reserve Fund to cover the maximum matching requirements of the Savings Plan Agreements. (See Part II, Section H.)

Applicants are strongly encouraged to mobilize additional resources, which may be cash or in-kind contributions, Federal or non-Federal, for support of project administration and assistance to Project Participants in obtaining skills, knowledge, and needed support services. (See Part III—I Element V(b))

(5) All Applications other than those submitted by eligible Credit Unions or CDFI's must include a copy of an Agreement between the Applicant and one or more Qualified Financial Institutions, which includes the provisions set out in Part III—I, Element II(c), which states that the accounting procedures to be followed in account management will conform to Guidelines (45 CFR Part 74) established by the Secretary, and under which the partnering financial institution will agree to provide data and reports as requested by the applicant. Note: the Accounting Guidelines may be found under 45 CFR parts 74 and 92.

E. Consideration of Applications

Applications which pass the initial OCS screening will be reviewed and rated by an independent review panel on the basis of the specific review criteria described and discussed in Part III, above. Applications will be reviewed and rated under the Program Elements and Review Criteria set forth in Part III Section I. The review criteria were designed to assess the quality of a proposed project, and to determine the likelihood of its success. The review criteria are closely related and are considered as a whole in judging the overall quality of an application. Points are awarded only to applications which are responsive to the review criteria and program elements within the context of this Program Announcement. The results of these reviews will assist the Director and OCS program staff in considering competing applications. Reviewers' scores will weigh heavily in funding decisions, but will not be the only factors considered.

Applications generally will be considered in order of the average scores assigned by reviewers. However, highly ranked applications are not guaranteed funding since other factors are taken into consideration, including, but not limited to, the timely and proper completion by applicant of projects funded with OCS funds granted in the last five (5) years; comments of reviewers and government officials; staff evaluation and input; the amount and duration of the grant requested and the proposed project's consistency and harmony with OCS goals and policy; geographic distribution of applications; previous program performance of applicants; compliance with grant terms under previous HHS grants, including the actual dedication to program of mobilized resources as set forth in project applications; audit reports; investigative reports; and applicant's progress in resolving any final audit disallowances on previous OCS or other Federal agency grants.

Since non-Federal reviewers will be used for review of applications, Applicants may omit from the application copies which will be made available to the non-Federal reviewers, the specific salary rates or amounts for individuals identified in the application budget. Rather, only summary information is required. OCS reserves the right to discuss applications with other Federal or non-Federal funding sources to verify the applicant's performance record and the documents submitted.

Part V. Instructions for Completing Application Forms

The standard forms attached to this announcement shall be used to apply for funds under this program announcement.

It is suggested that you reproduce single-sided copies of the SF-424 and SF-424A, and type your application on the copies. Please prepare your application in accordance with instructions provided on the forms (Attachments A and B) as modified by the instructions set forth in Part III G., above, and the OCS specific instructions set forth below:

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification which describes how the categorical costs are derived. Discuss the necessity, reasonableness, and allocability of the proposed costs. See the discussion of the Budget Justification in Part III Section I, Element III, above. Note: The Budget detail and Narrative Budget Justification should follow the SF 424 and 424A, and are not counted as part of the Project Narrative.

A. SF-424—Application for Federal Assistance (Attachment A)

Top of Page

Where the applicant is a previous Department of Health and Human Services grantee, enter the Central Registry System Employee Identification Number (CRS/EIN) and the Payment Identifying Number, if one has been assigned, in the Block entitled Federal Identifier located at the top right hand corner of the form (third line from the top).

Item 1. For the purposes of this announcement, all projects are considered Applications; there are no Pre-Applications.

Item 7. If applicant is a State, enter “A” in the box. If applicant is an Indian Tribe enter “K” in the box. If applicant is a non-profit organization enter “N” in the box.

Item 9. Name of Federal Agency—Enter DHHS-ACF/OCS.

Item 10. The Catalog of Federal Domestic Assistance number for OCS programs covered under this announcement is 93.602. The title is “Assets for Independence Demonstration Program (IDA Program)”.

Item 11. In addition to a brief descriptive title of the project, indicate the priority area for which funds are being requested. Use the following letter designations:

I—Individual projects under Priority Area 1.0

Item 13. Proposed Project—The project start date must begin on or before September 30, 2002; the ending date should be calculated on the basis of 60-month Project Period.

Item 15a. This amount should be no greater than $1,000,000 for applications under Priority Area 1.0, and in any case no greater than $1,000,000 less any previous AFIA grants awarded to the applicant.

Item 15b-e. These items should reflect both cash and third-party, in-kind contributions for the Project Period (60 months).

B. SF-424A—Budget Information—Non-Construction Programs (Attachment B)

In completing these sections, the Federal Funds budget entries will relate to the requested OCS funds only, and Non-Federal will include mobilized funds from all other sources—applicant, state, local, and other. Federal funds other than requested OCS funding should be included in Non-Federal entries.

Sections A, B, and C of SF-424A should reflect budget estimates for each year of the Project Period.

Section A—Budget Summary

You need only fill in lines 1 and 5 (with the same amounts)

Col. (a): Enter “IDA Program” as Item number 1. (Items 2, 3, 4, and 5 should be left blank.)

Col.(b): Catalog of Federal Domestic Assistance number is 93.602. Col. (c) and (d): not relevant to this program.

Column (e)-(g): enter the appropriate amounts in items 1. and 5. (Totals) Column e should not be more than $1,000,000 for applications under Priority Area 1.0, and in no case can it be more than the committed non-Federal matching cash contribution or more than $1,000,000 less any previous AFIA grants awarded to the applicant.

Section B—Budget Categories

(Note that the following information supersedes the instructions provided with the Form in Attachment C)

Columns (1)-(5): For each of the relevant Object Class Categories:

Column 1: Enter the OCS grant funds for the full 5-year budget period. With regard to Class Categories, no less than eighty-five percent (85%) of OCS grant funds should be entered in “h. Other”, representing the funds to be deposited in the Reserve Fund and which will be used to match participant contributions in IDA's. The balance of up to fifteen percent (15%) of OCS grant funds should be allocated to Object Class Categories in accordance with the instructions found in Part III Section G of this Announcement, and the requirements and limitations set out in Part II Section G(1)(b), above.

Columns 2, 3 and 4 are not relevant to this program.

Column 5: Enter not less than 85% of OCS grant funds for the five year budget by Class Categories under “other”, showing a total of not more than $1,000,000 less any previous AFIA grants awarded to the applicant.

Section C—Non Federal Resources

This section is to record the amounts of “non-Federal” resources that will be used to support the project, including both the required cash non-Federal share, and the “additional resources” which will bring additional support to the project, which may be cash or in-kind, non-Federal or Federal. In this context, “Non-Federal” resources mean any and all resources other than the OCS funds for which the applicant is applying. Therefore, mobilized funds from other Federal programs, such as the Job Training Partnership Act program or the Welfare-to-Work program, should be entered on these lines. Provide a brief listing of these “non-Federal” resources on a separate sheet and describe whether it is a grantee cost or a third-party cash or in-kind contribution. The firm commitment of these resources must be documented and submitted with the application in order to be given credit in the review process under the Non-Federal Resources program element. (Part III, Element V(b)

Note: Even though non-Federal resources mobilized may go beyond the amount required as the cash non-Federal share under the IDA Program, grantees will be held accountable for any such cash or in-kind contribution proposed or pledged as part of an approved application where the use of such funds falls within a Program Element/Proposal Review Criterion which formed the basis for the grant award. (See Part II, Section H. and Part III, Element V(b).

Sections D, E, and F may be left blank by Applicants under Priority Area 1.0.

As noted above and in Part VI, a supporting Budget Justification must be submitted providing details of expenditures under each budget category, with justification of dollar amounts which relate the proposed expenditures to the work program and goals of the project.

C. SF-424B Assurances: Non-Construction Programs

Applicants requesting financial assistance for a non-construction project must file the Standard Form 424B, “Assurances: Non-Construction Programs.” (Attachment C) Applicants must sign and return the Standard Form 424B with their applications.

Applicants must provide a certification concerning Lobbying. Prior to receiving an award in excess of $100,000, applicants shall furnish an executed copy of the lobbying certification. (See Attachments D and E) Applicants must sign and return the certification with their applications. Applicants should note that the Lobbying Disclosure Act of 1995 has simplified the lobbying information required to be disclosed under 31 U.S.C. 1352.

Applicants must make the appropriate certification on their compliance with the Drug-Free Workplace Act of 1988 and the Pro-Children Act of 1994 (Certification Regarding Smoke Free Environment). (See Attachments G and H) By signing and submitting the applications, applicants are attesting to their intent to comply with these requirements and need not mail back the certification with the applications.

Applicants must make the appropriate certification that they are not presently debarred, suspended or otherwise ineligible for award. (See Attachment I) By signing and submitting the applications, applicants are providing the certification and need not mail back the certification with the applications. Copies of the certifications and assurances are located at the end of this announcement.

Part VI. Contents of Application and Receipt Process

Application pages should be numbered sequentially throughout the application package, beginning with a Summary/Abstract of the proposed project as page number one; and each application must include all of the following, in the order listed below:

A. Content and Order of IDA Program Application: Checklist

1. A Project Summary/Abstract—brief, not to exceed one page, on the Applicant's letterhead (that will not be counted as a part of the Project Narrative/Description) and that includes the following information:

• A brief identification of the geographic area to be served, indicating poverty and unemployment rates, and the specific population to be targeted by the project;

• The amount of the grant requested;

• The name of partnering financial institution(s) and collaborating organizations (if applicable);

• The amount of required non-Federal match committed;

• The number of IDA accounts projected to be opened in the course of the Demonstration Project;

• The proposed rate of matching contributions, and the types and numbers of “Qualified Expenses” expected to be achieved by participants; and

• A brief narrative description of the project indicating any of its innovative aspects.

2. Table of Contents;

3. A completed Standard Form 424 (Attachment A) which has been signed by an official of the organization applying for the grant who has authority to obligate the organization legally; (Note: The original SF-424 must bear the original signature of the authorizing representative of the applicant organization);

4. A completed Budget Information-Non-Construction Programs (SF-424A) (Attachment B);

5. A Budget Justification, including narrative budget justification for each object class category included under Section B, as described in Part III, Program Element III;

6. Proof of current tax-exempt status of Applicant or Joint Applicant (See Part II B.) No grants will be awarded to applicants that have not submitted such documentation;

7. A project narrative, limited to 30 pages as specified in Part IV (D) Checklist, Item (2), and which includes all of the required elements described in Part III. (Specific information/data required under each component is described in Part III Section I, Evaluation Criteria.)

8. Appendices, which should include the following:

(a) (Where Application is submitted by a State or Local government agency or Tribal government jointly with a tax exempt non-profit organization) a properly executed Joint Application Agreement as described in Part II. Section B.(2), above;

(b) Filled out, signed and dated Assurances—Non-Construction Programs (SF-424B), (Attachment C);

(c) Restrictions on Lobbying—Certification for Contracts, Grants, Loans, and Cooperative Agreements: filled out, signed and dated form found at Attachment D;

(d) Disclosure of Lobbying Activities, SF-LLL: Filled out, signed and dated form found at Attachment E, if appropriate (omit Items 11-15 on the SF LLL and ignore references to continuation sheet SF-LLL-A)

(e) Maintenance of Effort Certification (See Attachment F);

(f) Signed Agreement(s) with partnering Financial Institution(s) (or Statements of Policy in the case of Credit Union or CDFI applicants) including identification of insurance carrier and current insurance number (see Part III. Program Sub-Element II(c));

(g) Signed Agreements with providers of required non-Federal matching contributions (See Part II, Section H.)

(h) Resumes and/or position descriptions (see Part III Program Element I);

(i) (Where Applicant is “lead agency” of a collaborative or consortium of organizations) Copies of Partnering Agreements between the Applicant and each of the partnering members, setting forth their roles and responsibilities. (See Part II. Section B(3) and Part III, Elements I and II(b))

(j) Any letters and/or supporting documents from collaborating or partnering agencies in target communities, providing additional information on staffing and experience in support of narrative under Part III Element I. (Such documents are not part of the Narrative and should be included in the Appendices. These documents are therefore not counted against the page limitations of the Narrative.); and

(k) Single points of contact comments, if applicable.

Applications must be uniform in composition since OCS may find it necessary to duplicate them for review purposes. Therefore, applications must be submitted on white 8½ x 11 inch paper only (See Part IV D. (2), above, concerning margins, type size, etc). They must not include colored, oversized or folded materials. Do not include organizational brochures or other promotional materials, slides, films, clips, etc. in the proposal. They will be discarded if included. The applications should be two-hole punched at the top center and fastened separately with a compressor slide paper fastener, or a binder clip. The submission of bound applications, or applications enclosed in binders is specifically discouraged.

B. Acknowledgment of Receipt

Acknowledgment of Receipt—All applicants will receive an acknowledgment with an assigned identification number. Applicants are requested to supply a self-addressed mailing label with their Application, or a FAX number or e-mail address which can be used for acknowledgment. The assigned identification number, along with any other identifying codes, must be referenced in all subsequent communications concerning the Application. If an acknowledgment is not received within three weeks after the deadline date, please notify ACF by telephone at (202) 401-5307.

Part VII. Post Award Information and Reporting Requirements.

A. Notification of Grant Award

Following approval of the applications selected for funding, notice of project approval and authority to draw down project funds will be made in writing. The official award document is the Financial Assistance Award which provides the amount of Federal funds approved for use in the project, the project and budget period for which support is provided, the terms and conditions of the award, and the total project period for which support is contemplated.

B. Attendance at Training/Technical Assistance/Incentive Awards Conferences

OCS plans to sponsor annual Training/Technical Assistance/Incentive Awards Conferences in locations at various locations during the course of the five-year project. Every funded project will be required to be represented at these conferences provided that, as expected, funds will be made available by OCS for expenses of attending.

C. Reporting Requirements

Grantees will be required to submit a semi-annual program progress reports (PPR's) and financial reports (SF 269) covering the six months after grant award, and similar reports after conclusion of the first Project Year. Such reports will be due 60 days after the reporting period. Thereafter grantees will only be required to submit annual program progress (PPR's) and financial reports (SF 269), as well as a final program progress and financial report 90 days after the expiration of the grant. In addition, grantees will be submitting information needed for the AFIA program evaluation described in PART I, Section E, and required by section 412 of the AFI Act; and needed for the Secretary's annual Interim Reports and Final Report to the Congress required by Section 414(d) of the AFI Act.

D. Audit Requirements

Grantees are subject to the audit requirements in 45 CFR part 74 (non-profit organizations) or Part 92 (governmental entities) which require audits under OMB Circular A-133.

E. Prohibitions and Requirements With Regard to Lobbying

Section 319 of Public Law 101-121, signed into law on October 23, 1989, imposes prohibitions and requirements for disclosure and certification related to lobbying on recipients of Federal contracts, grants, cooperative agreements, and loans. It provides limited exemptions for Indian tribes and tribal organizations. Current and prospective recipients (and their subtier contractors and/or grantees) are prohibited from using appropriated funds for lobbying Congress or any Federal agency in connection with the award of a contract, grant, cooperative agreement or loan. In addition, for each award action in excess of $100,000 (or $150,000 for loans) the law requires recipients and their subtier contractors and/or subgrantees (1) to certify that they have neither used nor will use any appropriated funds for payment to lobbyists, (2) to submit a declaration setting forth whether payments to lobbyists have been or will be made out of non-appropriated funds and, if so, the name, address, payment details, and purpose of any agreements with such lobbyists whom recipients or their subtier contractors or subgrantees will pay with the non-appropriated funds and (3) to file quarterly up-dates about the use of lobbyists if an event occurs that materially affects the accuracy of the information submitted by way of declaration and certification.

The law establishes civil penalties for noncompliance and is effective with respect to contracts, grants, cooperative agreements and loans entered into or made on or after December 23, 1989. See Attachment H, for certification and disclosure forms to be submitted with the applications for this program.

F. Applicable Federal Regulations

Attachment K indicates the regulations which apply to all applicants/grantees under the Assets for Independence Demonstration Program.

Dated: April 1, 2002.
Clarence H. Carter,
Director, Office of Community Services.

List of Attachments

A. Standard Form 424

B. Standard Form 424A

C. Assurances—Non-Construction Programs

D. Certification Regarding Lobbying Activities

E. Instructions of SF-LLL, Disclosure of Lobbying Activities

F. Certification Regarding Maintenance of Effort

G. Certification Regarding Drug-Free Workplace Requirements

H. Certification Regarding Environmental Tobacco Smoke

I. Certification Regarding Debarment, Suspension and Other Responsibility Matters

J. Office of Management and Budget, E.O. 12372 State Single Point of Contact List (SPOC)

K. DHHS Regulations Applying to All Applicants/Grantees Under the Assets for Independence DEMONSTRATION Program (IDA Program)

L. OMB Poverty Guidelines

M. State Child Support Enforcement Offices

BILLING CODE 4184-01-P

BILLING CODE 4184-01-C

BILLING CODE 4184-01-C

Attachment G—Certification Regarding Drug-Free Workplace Requirements

This certification is required by the regulations implementing the Drug-Free Workplace Act of 1988: 45 CFR Part 76, Subpart F. Sections 76.630(c) and (d)(2) and 76.645(a)(1) and (b) provide that a Federal agency may designate a central receipt point for STATE-WIDE AND STATE AGENCY-WIDE certifications, and for notification of criminal drug convictions. For the Department of Health and Human Services, the central pint is: Division of Grants Management and Oversight, Office of Management and Acquisition, Department of Health and Human Services, Room 517-D, 200 Independence Avenue, SW, Washington, DC 20201.

Certification Regarding Drug-Free Workplace Requirements (Instructions for Certification)

1. By signing and/or submitting this application or grant agreement, the grantee is providing the certification set out below.

2. The certification set out below is a material representation of fact upon which reliance is placed when the agency awards the grant. If it is later determined that the grantee knowingly rendered a false certification, or otherwise violates the requirements of the Drug-Free Workplace Act, the agency, in addition to any other remedies available to the Federal Government, may take action authorized under the Drug-Free Workplace Act.

3. For grantees other than individuals, Alternate I applies.

4. For grantees who are individuals, Alternate II applies.

5. Workplace under grants, for grantees other than individuals, need not be identified on the certification. If known, they may be identified in the grant application. If the grantee does not identity the workplaces at the time of application, or upon award, if there is no application, the grantee must keep the identity of the workplace(s) on file in its office and make the information available for Federal inspection. Failure to identify all known workplaces constitutes a violation of the grantee's drug-free workplace requirements.

6. Workplace identifications must include the actual address of buildings (or parts of buildings) or other sites where work under the grant takes place. Categorical descriptions may be used (e.g., all vehicles of a mass transit authority or State highway department while in operation, State employees in each local unemployment office, performers in concert halls or radio studios).

7. If the workplace identified to the agency changes during the performance of the grant, the grantee shall inform the agency of the change(s), if it previously identified the workplaces in question (see paragraph five).

8. Definitions of terms in the Nonprocurement Suspension and Debarment common rule and Drug-Free Workplace common rule apply to this certification. Grantees' attention is called, in particular, to the following definitions from these rules:

Controlled substance means a controlled substance in Schedules I through V of the Controlled Substances Act (21 U.S.C. 812) and as further defined by regulation (21 CFR 1308.11 through 1308.15);

Conviction means a finding of guilt (including a plea of nolo contendere) or imposition of sentence, or both, by any judicial body charged with the responsibility to determine violations of the Federal or State criminal drug statutes;

Criminal drug statute means a Federal of non-Federal criminal statute involving the manufacture, distribution, dispensing, use, or possession of any controlled substance;

Employee means the employee of a grantee directly engaged in the performance of work under a grant, including: (i) All direct charge employees; (ii) All indirect charge employees unless their impact or involvement is insignificant to the performance of the grant; and, (iii) Temporary personnel and consultants who are directly engaged in the performance of work under the grant and who are on the grantee's payroll. This definition does not include workers not on the payroll of the grantee (e.g., volunteers, even if used to meet a matching requirement; consultants or independent contractors not on the grantee's payroll; or employees of subrecipients or subcontractors in covered workplaces).

Certification Regarding Drug-Free Workplace Requirements

Alternate I. (Grantees Other Than Individuals)

The grantee certifies that it will or will continue to provide a drug-free workplace by:

(a) Publishing a statement notifying employees that the unlawful manufacture, distribution, dispensing, possession, or use of a controlled substance is prohibited in the grantee's workplace and specifying the actions that will be taken against employees for violation of such prohibition;

(b) Establishing an ongoing drug-free awareness program to inform employees about—

(1) The dangers of drug abuse in the workplace;

(2) The grantee's policy of maintaining a drug-free workplace;

(3) Any available drug counseling, rehabilitation, and employee assistance programs;

(4) The penalties that may be imposed upon employees for drug abuse violations occurring in the workplace;

(c) Making it a requirement that each employee to be engaged in the performance of the grant be given a copy of the statement required by paragraph (a);

(d) Notifying the employee in the statement required by paragraph (a) that, as a condition of employment under the grant, the employee will—

(1) Abide by the terms of the statement; and

(2) Notify the employer in writing of his or her conviction for a violation of a criminal drug statute occurring in the workplace no later than five calendar days after such conviction;

(e) Notifying the agency in writing, within ten calendar days after receiving notice under paragraph (d)(2) from an employee or otherwise receiving actual notice of such conviction. Employers of convicted employers must provide notice, including position title, to every grant officer or other designee on whose grant activity the convicted employee was working, unless the Federal agency had designated a central point for the receipt of such notices. Notice shall include the identification number(s) of each affected grant;

(f) Taking one of the following actions, within 30 calendar days of receiving notice under paragraph (d)(2), with respect to any employee who is so convicted—

(1) Taking appropriate personnel action against such an employee, up to and including termination, consistent with the requirements of the Rehabilitation Act of 1973, as amended; or

(2) Requiring such employee to participate satisfactorily in a drug abuse assistance or rehabilitation program approved for such purposes by a Federal, State, or local health, law enforcement, or other appropriate agency;

(g) Making a good faith effort to continue to maintain a drug-free workplace through implementation of paragraphs (a), (b), (c), (d), (e) and (f).

(B) The grantee may insert in the space provided below the site(s) for the performance of work done in connection with the specific grant:

Place of Performance (Street address, city, county, state, zip code)

Check if there are workplaces on file that are not identified here.

Alternate II. (Grantees Who Are Individuals)

(a) The grantee certifies that, as a condition of the grant, he or she will not engage in the unlawful manufacture, distribution, dispensing, possession, or use of a controlled substance in conducting any activity with the grant;

(b) If convicted of a criminal drug offense resulting from a violation occurring during the conduct of any grant activity, he or she will report the conviction, in writing, within 10 calendar days of the conviction, to every grant officer or other designee, unless the Federal agency designates a central point for the receipt of such notices. When notice is made to such a central point, it shall include the identification number(s) of each affected grant.

Attachment H—Certification Regarding Environmental Tobacco Smoke

Public Law 103227, Part C Environmental Tobacco Smoke, also known as the Pro Children Act of 1994, requires that smoking not be permitted in any portion of any indoor routinely owned or leased or contracted for by an entity and used routinely or regularly for provision of health, day care, education, or library services to children under the age of 18, if the services are funded by Federal programs either directly or through State or local governments, by Federal grant, contract, loan, or loan guarantee. The law does not apply to children's services provided in private residences, facilities funded solely by Medicare or Medicaid funds, and portions of facilities used for inpatient drug or alcohol treatment. Failure to comply with the provisions of the law may result in the imposition of a civil monetary penalty of up to $1000 per day and/or the imposition of an administrative compliance order on the responsible entity. By signing and submitting this application the applicant/grantee certifies that it will comply with the requirements of the Act.

The applicant/grantee further agrees that it will require the language of this certification be included in any subawards which contain provisions for the children's services and that all subgrantees shall certify accordingly.

Attachment I—Certification Regarding Debarment, Suspension and Other Responsibility Matters—Primary Covered Transactions

Instructions for Certification

1. By signing and submitting this proposal, the prospective primary participant is providing the certification set out below.

2. The inability of a person to provide the certification required below will not necessarily result in denial of participation in this covered transaction. The prospective participant shall submit an explanation of why it cannot provide the certification set out below. The certification or explanation will be considered in connection with the department or agency's determination whether to enter into this transaction. However, failure of the prospective primary participant to furnish a certification or an explanation shall disqualify such person from participation in this transaction.

3. The certification in this clause is a material representation of fact upon which reliance was placed when the department or agency determined to enter into this transaction. If it is later determined that the prospective primary participant knowingly rendered an erroneous certification, in addition to other remedies available to the Federal Government, the department or agency may terminate this transaction for cause or default.

4. The prospective primary participant shall provide immediate written notice to the department or agency to which this proposal is submitted if at any time the prospective primary participant learns that its certification was erroneous when submitted or has become erroneous by reason of changed circumstances.

5. The terms covered transaction, debarred, suspended, ineligible, lower tier covered transaction, participant, person, primary covered transaction, principal, proposal, and voluntarily excluded, as used in this clause, have the meanings set out in the Definitions and Coverage sections of the rules implementing Executive Order 12549. You may contact the department or agency to which this proposal is being submitted for assistance in obtaining a copy of those regulations.

6. The prospective primary participant agrees by submitting this proposal that, should the proposed covered transaction be entered into, it shall not knowingly enter into any lower tier covered transaction which a person who is proposed for debarment under 48 CFR part 9, subpart 9.4, debarred, suspended, declared ineligible, or voluntarily excluded from participation in this covered transaction, unless authorized by the department or agency entering into this transaction.

7. The prospective primary participant further agrees by submitting this proposal that it will include the clause titled “Certification Regarding Debarment, Suspension, Ineligibility and Voluntary Exclusion-Lower Tier Covered Transaction,” provided by the department or agency entering into this covered transaction, without modification, in all lower tier covered transactions and in all solicitations for lower tier covered transactions.

8. A participant in a covered transaction may rely upon certification of a prospective participant in a lower tier covered transaction that it is not proposed for debarment under 48 CFR part 9, subpart 9.4, debarred, suspended, ineligible, or voluntarily excluded from the covered transaction, unless it knows that the certification is erroneous. A participant may decide the method and frequency by which it determines the eligibility of its principals. Each participant may, but is not required to, check the List of Parties Excluded from Federal Procurement and Nonprocurement Programs.

9. Nothing contained in the foregoing shall be construed to require establishment of a system of records in order to render in good faith the certification required by this clause. The knowledge and information of a participant is not required to exceed that which is normally possessed by a prudent person in the ordinary course of business dealings.

10. Except for transactions authorized under paragraph 6 of these instructions, if a participant in a covered transaction knowingly enters into a lower tier covered transaction with a person who is proposed for debarment under 48 CFR part 9, subpart 9.4, suspended, debarred, ineligible, or voluntarily excluded from participation in this transaction, in addition to other remedies available to the Federal Government, the department or agency may terminate this transaction for cause or default.

Certification Regarding Debarment, Suspension, and Other Responsibility Matters—Primary Covered Transactions

(1) The prospective primary participant certifies to the best of its knowledge and belief, that it and its principals:

(a) Are not presently debarred, suspended, proposed for debarment, declared ineligible, or voluntarily excluded by any Federal department or agency;

(b) Have not within a three-year period preceding this proposal been convicted of or had a civil judgment rendered against them for commission of fraud or a criminal offense in connection with obtaining, attempting to obtain, or performing a public (Federal, State or local) transaction or contract under a public transaction; violation of Federal or State antitrust statutes or commission of embezzlement, theft, forgery, bribery, falsification or destruction of records, making false statements, or receiving stolen property;

(c) Are not presently indicted for or otherwise criminally or civilly charged by a governmental entity (Federal, State or local) with commission of any of the offenses enumerated in paragraph (1)(b) of this certification; and

(d) Have not within a three-year period preceding this application/proposal had one or more public transactions (Federal, State or local) terminated for cause or default.

(2) Where the prospective primary participant is unable to certify to any of the statements in this certification, such prospective participant shall attach an explanation to this proposal.

Certification Regarding Debarment, Suspension, Ineligibility and Voluntary Exclusion—Lower Tier Covered Transactions

Instructions for Certification

1. By signing and submitting this proposal, the prospective lower tier participant is providing the certification set out below.

2. The certification in this clause is a material representation of fact upon which reliance was placed when this transaction was entered into. If it is later determined that the prospective lower tier participant knowingly rendered an erroneous certification, in addition to other remedies available to the Federal Government the department or agency with which this transaction originated may pursue available remedies, including suspension and/or debarment.

3. The prospective lower tier participant shall provide immediate written notice to the person to which this proposal is submitted if at any time the prospective lower tier participant learns that its certification was erroneous when submitted or had become erroneous by reason of changed circumstances.

4. The terms covered transaction, debarred, suspended, ineligible, lower tier covered transaction, participant, person, primary covered transaction, principal, proposal, and voluntarily excluded, as used in this clause, have the meaning set out in the Definitions and Coverage sections of rules implementing Executive Order 12549. You may contact the person to which this proposal is submitted for assistance in obtaining a copy of those regulations.

5. The prospective lower tier participant agrees by submitting this proposal that, [Page 33043] should the proposed covered transaction be entered into, it shall not knowingly enter into any lower tier covered transaction with a person who is proposed for debarment under 48 CFR part 9, subpart 9.4, debarred, suspended, declared ineligible, or voluntarily excluded from participation in this covered transaction, unless authorized by the department or agency with which this transaction originated.

6. The prospective lower tier participant further agrees by submitting this proposal that it will include this clause titled “Certification Regarding Debarment, Suspension, Ineligibility and Voluntary Exclusion-Lower Tier Covered Transaction.” without modification, in all lower tier covered transactions and in all solicitations for lower tier covered transactions.

7. A participant in a covered transaction may rely upon a certification of a prospective participant in a lower tier covered transaction that it is not proposed for debarment under 48 CFR part 9, subpart 9.4, debarred, suspended, ineligible, or voluntarily excluded from covered transactions, unless it knows that the certification is erroneous. A participant may decide the method and frequency by which it determines the eligibility of its principals. Each participant may, but is not required to, check the List of Parties Excluded from Federal Procurement and Nonprocurement Programs.

8. Nothing contained in the foregoing shall be construed to require establishment of a system of records in order to render in good faith the certification required by this clause. The knowledge and information of a participant is not required to exceed that which is normally possessed by a prudent person in the ordinary course of business dealings.

9. Except for transaction authorized under paragraph 5 of these instructions, if a participant in a covered transaction knowingly enters into a lower tier covered transaction with a person who is proposed for debarment under 48 CFR part 9, subpart 9.4, suspended, debarred, ineligible, or voluntarily excluded from participation in this transaction, in addition to other remedies available to the Federal Government, the department or agency with which this transaction originated may pursue available remedies, including suspension and/or debarment.

Certification Regarding Debarment, Suspension, Ineligibility and Voluntary Exclusion—Lower Tier Covered Transactions

(1) The prospective lower tier participant certifies, by submission of this proposal, that neither it nor its principals is presently debarred, suspended, proposed for debarment, declared ineligible, or voluntarily excluded from participation in this transaction by any Federal department or agency.

(2) Where the prospective lower tier participant is unable to certify to any of the statements in this certification, such prospective participant shall attach an explanation to this proposal.

Office of Management and Budget Intergovernmental Review E.O. 12372 State Single Point of Contact List (SPOC)

It is estimated that in 2001 the Federal government will outlay $305.6 billion in grants to State and local governments. Executive Order 12372, “Intergovernmental Review of Federal Programs,” was issued with the desire to foster the intergovernmental partnership and strengthen federalism by relying on State and local processes for the coordination and review of proposed Federal financial assistance and direct Federal development. The Order allows each State to designate an entity to perform this function. Below is the official list of those entities. For those States that have a home page for their designated entity, a direct link has been provided below.

States that are not listed on this page have chosen not to participate in the intergovernmental review process, and therefore do not have a SPOC. If you are located within one of these States, you may still send application materials directly to a Federal awarding agency.

Contact information for Federal agencies that award grants can be found in Appendix IV of the Catalog of Federal Domestic Assistance.

Arkansas

Tracy L. Copeland

Manager, State Clearinghouse

Office of Intergovernmental Services

Department of Finance and Administration

1515 W. 7th St., Room 412

Little Rock, Arkansas 72203

Telephone: (501) 682-1074

Fax: (501) 682-5206

tlcopeland@dfa.state.ar.us

California

Grants Coordination

State Clearinghouse

Office of Planning and Research

P.O. Box 3044, Room 222

Sacramento, California 95812-3044

Telephone: (916) 445-0613

Fax: (916) 323-3018

state.clearinghouse@opr.ca.gov

Delaware

Charles H. Hopkins

Executive Department

Office of the Budget

540 S. Dupont Highway, 3rd Floor

Dover, Delaware 19901

Telephone (302) 739-3323

Fax: (302) 739-5661

chopkins@state.de.us

District of Columbia

Luisa Montero-Diaz

Office of Partnerships and Grants Development

Executive Office of the Mayor

District of Columbia Government

441 4th Street, NW, Suite 530 South

Washington, DC 20001

Telephone: (202) 727-8900

Fax: (202) 727-1652

opgd.eom@dc.gov

Florida

Jasmin Raffington

Florida State Clearinghouse

Department of Community Affairs

2555 Shumard Oak Blvd.

Tallahassee, Florida 32399-2100

Telephone: (850) 922-5438

Fax: (850) 414-0479

clearinghouse@dca.state.fl.us

Georgia

Georgia State Clearinghouse

270 Washington Street, SW

Atlanta, Georgia 30334

Telephone: (404) 656-3855

Fax: (404) 656-7901

gach@mail.opb.state.ga.us

Illinois

Virginia Bova

Department of Commerce and Community Affairs

James R. Thompson Center

100 West Randolph, Suite 3-400

Chicago, Illinois 60601

Telephone: (312) 814-6028

Fax: (312) 814-8485

vbova@commerce.state.il.us

Iowa

Steven R. McCann

Division of Community and Rural Development

Iowa Department of Economic Development

200 East Grand Avenue

Des Moines, Iowa 50309

Telephone: (515) 242-4719

Fax: (515) 242-4809

steve.mccann@ided.state.ia.us

Kentucky

Ron Cook

Department for Local Government

1024 Capital Center Drive, Suite 340

Frankfort, Kentucky 40601

Telephone: (502) 573-2382

Fax: (502) 573-2512

ron.cook@mail.state.ky.us

Maine

Joyce Benson

State Planning Office

184 State Street

38 State House Station

Augusta, Maine 04333

Telephone: (207) 287-3261

(207) 287-1461 (direct)

Fax: (207) 287-6489

joyce.benson@state.me.us

Maryland

Linda Janey

Manager, Clearinghouse and Plan Review Unit

Maryland Office of Planning

301 West Preston Street—Room 1104

Baltimore, Maryland 21201-2305

Telephone: (410) 767-4490

Fax: (410) 767-4480

linda@mail.op.state.md.us

Michigan

Richard Pfaff

Southeast Michigan Council of Governments

535 Griswold, Suite 300

Detroit, Michigan 48226

Telephone: (313) 961-4266

Fax: (313) 961-4869

pfaff@semcog.org

Mississippi

Cathy Mallette

Clearinghouse Officer

Department of Finance and Administration

1301 Woolfolk Building, Suite E

501 North West Street

Jackson, Mississippi 39201

Telephone: (601) 359-6762

Fax: (601) 359-6758

Missouri

Angela Boessen

Federal Assistance Clearinghouse

Office of Administration

P.O. Box 809

Truman Building, Room 840

Jefferson City, Missouri 65102

Telephone: (573) 751-4834

Fax: (573) 522-4395

igr@mail.oa.state.mo.us

Nevada

Heather Elliott

Department of Administration

State Clearinghouse

209 E. Musser Street, Room 200

Carson City, Nevada 89701

Telephone: (775) 684-0209

Fax: (775) 684-0260

helliott@govmail.state.nv.us

New Hampshire

Jeffrey H. Taylor

Director

New Hampshire Office of State Planning

Attn: Intergovernmental Review Process

Mike Blake

2½ Beacon Street

Concord, New Hampshire 03301

Telephone: (603) 271-2155

Fax: (603) 271-1728

jtaylor@osp.state.nh.us

New Mexico

Ken Hughes

Local Government Division

Room 201 Bataan Memorial Building

Santa Fe, New Mexico 87503

Telephone: (505) 827-4370

Fax: (505) 827-4948

khughes@dfa.state.nm.us

North Carolina

Jeanette Furney

Department of Administration

1302 Mail Service Center

Raleigh, North Carolina 27699-1302

Telephone: (919) 807-2323

Fax: (919) 733-9571

jeanette.furney@ncmail.net

North Dakota

Jim Boyd

Division of Community Services

600 East Boulevard Ave, Dept 105

Bismarck, North Dakota 585805-0170

Telephone: (701) 328-2094

Fax: (701) 328-2308

jboyd@state.nd.us

Rhode Island

Kevin Nelson

Department of Administration

Statewide Planning Program

One Capitol Hill

Providence, Rhode Island 02908-5870

Telephone: (401) 222-2093

Fax: (401) 222-2083

knelson@doa.state.ri.us

South Carolina

Omeagia Burgess

Budget and Control Board

Office of State Budget

1122 Ladies Street, 12th Floor

Columbia, South Carolina 29201

Telephone: (803) 734-0494

Fax: (803) 734-0645

aburgess@budget.state.sc.us

Texas

Denise S. Francis

Director, State Grants Team

Governor's Office of Budget and Planning

P.O. Box 12428

Austin, Texas 78711

Telephone: (512) 305-9415

Fax: (512) 936-2681

dfrancis@governor.state.tx.us

Utah

Carolyn Wright

Utah State Clearinghouse

Governor's Office of Planning and Budget

State Capitol, Room 114

Salt Lake City, Utah 84114

Telephone: (801) 538-1535

Fax: (801) 538-1547

cwright@gov.state.ut.us

West Virginia

Fred Cutlip, Director

Community Development Division

West Virginia Development Office

Building #6, Room 553

Charleston, West Virginia 25305

Telephone: (304) 558-4010

Fax: (304) 558-3248

fcutlip@wvdo.org

Wisconsin

Jeff Smith

Section Chief, Federal/State Relations

Wisconsin Department of Administration

101 East Wilson Street—6th Floor

P.O. Box 7868

Madison, Wisconsin 53707

Telephone: (608) 266-0267

Fax: (608) 267-6931

jeffrey.smith@doa.state.wi.us

American Samoa

Pat M. Galea'i

Federal Grants/Programs Coordinator

Office of Federal Programs

Office of the Governor/Department of Commerce

American Samoa Government

Pago Pago, American Samoa 96799

Telephone: (684) 633-5155

Fax: (684) 633-4195

pmgaleai@samoatelco.com

Guam

Director

Bureau of Budget and Management Research

Office of the Governor

P.O. Box 2950

Agana, Guam 96910

Telephone: 011-472-2285

Fax: 011-472-2825

jer@ns.gov.gu

Puerto Rico

Jose Caballero / Mayra Silva

Puerto Rico Planning Board

Federal Proposals Review Office

Minillas Government Center

P.O. Box 41119

San Juan, Puerto Rico 00940-1119

Telephone: (787) 723-6190

Fax: (787) 722-6783

North Mariana Islands

Ms. Jacoba T. Seman

Federal Programs Coordinator

Office of Management and Budget

Office of the Governor

Saipan, MP 96950

Telephone: (670) 664-2289

Fax: (670) 664-2272

omb.jseman@saipan.com

Virgin Islands

Ira Mills

Director, Office of Management and Budget

#41 Norre Gade Emancipation Garden Station, Second Floor

Saint Thomas, Virgin Islands 00802

Telephone: (340) 774-0750

Fax: (340) 776-0069

Irmills@usvi.org

Changes to this list can be made only after OMB is notified by a State's officially designated representative. E-mail messages can be sent to grants@omb.eop.gov. If you prefer, you may send correspondence to the following address: Attn: Grants Managements, Office of Management and Budget, New Executive Office Building, Suite 6025, 725 17th Street, NW., Washington, DC 20503.

Please Note: Inquiries about obtaining a Federal grant should not be sent to the OMB e-mail or postal address shown above. The best source for this information is the CFDA.

Attachment K—DHHS Regulations Applying to All Applicants/Grantees Under the Assets for Independence Demonstration Program (IDA Program)

Title 45 of the Code of Federal Regulations

Part 16—Department of Grant Appeals Process

Part 74—Administration of Grants (grants with subgrants to entities)

Part 75—Informal Grant Appeal Procedures

Part 76—Debarment and Suspension from Eligibility for Financial Assistance

Subpart F—Drug Free Workplace Requirements

Part 80—Non-Discrimination Under Programs Receiving Federal Assistance through the Department of Health and Human Services Effectuation of Title VI of the Civil Rights Act of 1964

Part 81—Practice and Procedures for Hearings Under Part 80 of this Title

Part 83—Regulation for the Administration and Enforcement of Sections 799A and 845 of the Public Health Service Act

Part 84—Non-discrimination on the Basis of Handicap in Programs and Activities Receiving Federal Financial Assistance

Part 85—Enforcement of Non-Discrimination on the Basis of Handicap in Programs or Activities Conducted by the Department of Health and Human Services

Part 86—Nondiscrimination on the Basis of Sex in Education Programs and Activities Receiving or Benefiting from Federal Financial Assistance

Part 91—Non-discrimination on the Basis of Age in Health and Human Services Programs or Activities Receiving Federal Financial Assistance

Part 92—Uniform Administrative Requirements for Grants and Cooperative Agreements to States and Local Governments

Part 93—New Restrictions on Lobbying Part 100—Intergovernmental Review of Department of Health and Human Services Programs and Activities

Part 1000—Individual Development Account Reserve Funds Established Pursuant to Grants for Assets for Independence

Poverty 2000

Attachment M—OMB Poverty Guidelines

Poverty Thresholds in 2000, by Size of Family and Number of Related Children Under 18 Years
[Dollars]
Size of family unit | Weighted average thresholds | 200 percent of poverty thresholds
One person (unrelated individual) | 8,794 | 17,588
Under 65 years | 8,959 | 17,918
65 years and over | 8,259 | 16,518
Two persons | 11,239 | 22,478
Householder under 65 years | 11,590 | 23,180
Householder 65 years and over | 10,419 | 20,838
Three persons | 13,738 | 27,476
Four persons | 17,603 | 35,206
Five persons | 20,819 | 41,638
Six persons | 23,528 | 47,056
Seven persons | 26,754 | 53,508
Eight persons | 29,701 | 59,402
Nine persons or more | 35,060 | 70,120
Source: U.S. Bureau of the Census, Current Population Survey.

Go to Poverty 2000 Go to Poverty Statistics

Created: September 20, 2000 Last Revised: September 25, 2001

Attachment M—State Child Support Enforcement Offices, Contact Information

Alabama

Department of Human Resources,

50 Ripley Street,

Montgomery, Alabama 36130-1801

800-284-4347(P), 334-242-0606(F)

Alaska

Child Support Enforcement Division,

550 West 7th Avenue, Suite 310,

Anchorage, Alaska 99501-6699

800-478-3300(P), 907-269-6813(F)

American Samoa

Office of the Attorney General,

P.O. Box 7,

Pago Pago, American Samoa 96799

684-633-4163(P), 684-633-1838(F)

Arizona

Department of Economic Security,

Division of Child Support Enforcement,

P.O. Box 40458, Site Code 021A (Street Address: 3443 N. Central Avenue, 4th Floor, Phoenix, AZ 85012),

Phoenix, Arizona 85067

602-252-4045(P), 602-000-0000(F)

Arkansas

Office of Child Support Enforcement,

Division of Revenue,

P.O. Box 8133 (400 East Capitol 72203),

Little Rock, Arkansas 72203

800-264-2445(P), 501-682-6002(F)

California

Dept. of Child Support Services,

P.O. Box 419064, Mail Station 9-700,

Rancho Cordova, California 95741-9064

866-249-0773(P), 916-464-5065(F)

Colorado

Department of Human Services, Division of Child Support Enforcement

303 East 17th Avenue, Suite 200,

Denver, Colorado 80203-1714

720-947-5000(P), 720-947-5006(F)

Connecticut

Department of Social Services, Bureau of Child Support Enforcement,

25 Sigourney Street

Hartford, Connecticut 06105-5033

860-424-5251(P), 860-951-2996(F)

Delaware

Department of Health and Social Services, Division of Child Support Enforcement,

Herman Hallaway Campus (street addr: 1901 North Dupont Hwy)

P.O. Box 904,

New Castle, Delaware 19720

302-577-4800(P), 302-577-4873(F)

District of Columbia

Office of Corporation Counsel,

441 Fourth Street NW, 5th Floor, Judiciary Square,

Washington, District of Columbia 20024-2480

202-724-5319(P), 202-724-3710(F)

Florida

Department of Revenue, Child Support Enforcement Program,

P.O. Box 8030,

Tallahassee, Florida 32314-8030

850-922-9590(P), 850-414-1698(F)

Georgia

Department of Human Resources Child Support Enforcement,

P.O. Box 38450,

Two Peachtree Street, NW.,

Suite 20-445, Zip 30303,

Atlanta, Georgia 30334-0450

800-227-7993(P), 404-657-3326(F)

Guam

OAG, CSE

130 East Marine Drive,

Hagatna, Guam 96910

671-475-3360(P), 617-477-6118(F)

Hawaii

Department of Attorney General, Child Support Enforcement Agency,

Kakuhihewa State Office Building,

601 Kamokila Boulevard, Suite 251

Kapolei, Hawaii 96707

808-692-7000(P)

Idaho

Department of Health and Welfare, Bureau of Child Support Services,

P.O. Box 83720 (450 West State Street, 6th Floor Zip 83702),

Boise, Idaho 83720-0036

800-356-9868(P), 208-334-0666(F)

Illinois

Illinois Department of Public Aid, Division of Child Support Enforcement,

509 S. 6th St., 6th floor,

Springfield, Illinois 62701

800-477-4278(P), 217-524-4608(F)

Indiana

Child Support Bureau,

402 West Washington Street, Rm W360,

Indianapolis, Indiana 46204

317-233-5437(P), 317-233-4932(F)

Iowa

Department of Human Services, Bureau of Collections,

Hoover Building, 5th Floor,

Des Moines, Iowa 50309-4691

515-281-5580(P), 515-281-8854(F)

Kansas

Department of Social & Rehabilitation Services, Child Support Enforcement Program,

415 SW 8th St., 2nd Floor,

Topeka, Kansas 66601

785-296-3237(P), 785-296-5206(F)

Kentucky

Cabinet for Human Resources, Division of Child Support Enforcement,

275 East Main Street,

Frankfort, Kentucky 40621

502-564-2285(P), 502-564-5988(F)

Louisiana

Support Enforcement Services, Office of Family Support,

P.O. Box 94065 (530 Lakeland Drive),

Baton Rouge, Louisiana 70804-4065

504-342-4780(P), 504-342-7397(F)

Maine

Dept of Human Services, Bureau of Family Independance, Div of Support Enforcement and Recovery,

State House Station,

Augusta, Maine 04333

800-371-3101(P), 201-287-2886(F)

Maryland

Child Support Enforcement Administration,

311 West Saratoga Street,

Baltimore, Maryland 21201

800-332-6347(P), 410-333-8992(F)

Massachusetts

Department of Revenue, Child Support Enforcement Division,

141 Portland Street,

Cambridge, Massachusetts 02139-1937

800-332-2733(P), 617-621-4991(F)

Michigan

Family Independency Agency, Office of Child Support,

P.O. Box 30478 (Street Address: 235 S. Grand Ave., Suite 1215),

Lansing, Michigan 48909-7978

517-373-7570(P), 517-373-4980(F)

Minnesota

Department of Human Services, Office of Child Support Enforcement,

444 Lafayette Road, 4th floor,

St. Paul, Minnesota 55155-3846

651-215-1714(P), 651-297-4450(F)

Mississippi

Department of Human Services, Division of Child Support Enforcement,

P.O. Box 352,

Jackson, Mississippi 39205

800-434-5437(P), 601-359-4415(F)

Missouri

Department of Social Services, Division of Child Support Enforcement,

P.O. Box 2320,

3418 Knipp Dr.,

Jefferson City, Missouri 65101-2320

800-859-7999(P), 573-751-8450(F)

Montana

Dept. of Public HHS,

3075 N. Montana Ave., Suite 112,

Helena, Montana 59620

800-346-5437(P), 406-444-1370(F)

Nebraska

Department of Health and Human Services, Child Support Enforcement Office,

P.O. Box 94728,

West Campus Folsom and West Prospector Place,

Lincoln, Nebraska 68509-4728

800-831-4573(P), 402-471-5543(F)

Nevada

Nevada State Welfare Division,

1470 E. College Parkway,

Carson City, Nevada 89706-7924

775-684-0704(P), 775-684-0702(F)

New Hampshire

Office of Program Support, Office of Child Support,

Health and Human Services Building

129 Pleasant Street,

Concord, New Hampshire 3301

800-852-3345(P), 603-271-4787(F)

New Jersey

Dept. of Human Services Bureau,

P.O. Box 716

Trenton, New Jersey 08625-0716

609-588-2915(P), 609-588-2354(F)

New Mexico

Department: Human Services Department, Child Support Enforcement Bureau,

P.O. Box 25110 (Street Address: 20009 S. Pacheco, Santa Fe, NM 87504),

Santa Fe, New Mexico 73512

505-827-7200(P), 505-827-7285(F)

New York

Div. of Child Support Enf.,

Office of Temporary Assistance and Disability,

40 North Pearl Street, 13th Floor,

Albany, New York 12243-0001

518-474-9081(P), 518-486-3127(F)

North Carolina

Department of Human Resources, Division of Social Services, Child Support Enforcement Section,

100 East Six Forks Road,

Raleigh, North Carolina 27609-7750

919-571-4114(P), 919-571-4126(F)

North Dakota

Department of Human Services, Child Support Enforcement Agency,

P.O. Box 7190 (Street Address: 1929 North Washington Street, Bismark, ND 58507-7190),

Bismarck, North Dakota 58507-7109

701-328-3582(P), 701-328-5497(F)

Ohio

Department of Human Services, Office of Child Support Enforcement,

30 East Broad Street, 31st Floor,

Columbus, Ohio 43266-0423

614-752-6561(P), 614-752-9760(F)

Oklahoma

Department of Human Services, Child Support Enforcement Division,

P.O. Box 53552 (Street Address: 2409 N. Kelley Avenue, Annex Building, (Oklahoma City, OK 73152).

Oklahoma City, OK 73152

405-522-5871(P), 405-522-2753(F)

Oregon

Department of Justice,

Oregon Child Support Program,

500 Summer St., 2nd Floor,

Salem, Oregon 97301-1066

503-378-5567(P), 503-391-5526(F)

Pennsylvania

Department of Public Welfare, Bureau of Child Support Enforcement, P.O. Box 8018, Street Address: 1303 North Seventh St., 17102 Commerce Bldg., 12th Floor, Harrisburg, Pennsylvania 17015

717-787-3672(P), 717-787-9706(F)

Puerto Rico

Department of the Family, P.O. Box 9023349, San Juan, Puerto Rico 00902-3349,

787-767-1500(P), 787-723-6187(F)

Rhode Island

Department of Administration, Division of Child Support Enforcement, 77 Dorrance Street, Providence, Rhode Island 02903

401-222-5132(P), 401-277-6674(F)

South Carolina

Department of Social Services, Child Support Enforcement Division, P.O. Box 1469, Street Address: 3150 Harden Street, Columbia, South Carolina 29202-1469

803-898-7601(P), 803-898-9201(F)

South Dakota

Department of Social Services, Office of Child Support Enforcement, 700 Governor's Drive, Suite 84, Pierre, South Dakota 57501-2291

605-773-3641(P), 605-773-5246(F)

Tennessee

Department of Human Services, Child Support Services, Citizens Plaza Building, 12th Floor, 400 Deadrick Street, Nashville, Tennessee 37248-7400

615-313-4880(P), 615-532-2791(F)

Texas

Office of the Attorney General, Child Support Division, P.O. Box 12017, Street Address: 5500 E. Oltorf, Austin, Texas 78711-2017

512-460-6000(P), 512-834-9712(F)

Utah

Department of Human Services, Bureau of Child Support Services, P.O. Box 45011, 515 East, 100 South, Salt Lake, Utah 84145-0011

801-536-8500(P), 801-536-8509(F)

Vermont

Office of Child Support, 103 South Main Street, Waterbury, Vermont 05671-1901

802-244-1483(P), 802-244-1483(F)

Virgin Islands

Department of Justice, Paternity and Child Support Division, Nisky Center, Suite 500, 2nd Floor, St. Thomas, Virgin Islands 00802

340-777-3070(P)

Virginia

Department of Social Services, Division of Child Support Enforcement, 730 East Broad Street, 4th floor, Richmond, Virginia 23219-1849

804-692-1428(P), 804-692-1405(F)

Washington

DSHS, Division of Child Support, P.O. Box 9162, Street Address: 712 Pear St, SE., Olympia, Washington 98507

360-664-5005(P)

West Virginia

Department of Health & Human Resources, Bureau of Child Support Enforcement, 350 Capitol Street, Room 147, Charleston, West Virginia 25301-3703

304-558-3780(P)

Wisconsin

Bureau of Child Support, Division of Economic Support, P.O. Box 7935, Street Address: 1 West Wilson Street, Room 382, Madison, Wisconsin 53707-7935

608-266-9909(P), 608-267-2842(F)

Wyoming

Department of Family Services, Child Support Enforcement Program, Hathaway Building, Rm 361, 2300 Capital Avenue, Cheyenne, Wyoming 82002-0710

307-777-7631(P), 307-777-3693(F)

[FR Doc. 02-8717 Filed 4-12-02; 8:45 am]

BILLING CODE 4184-01-P